DEPARTMENT OF AGRICULTURE

Agricultural Marketing Service

7 CFR Part 1205

[Doc. AMS-CN-12-0065]

Cotton Board Rules and Regulations: Adjusting Supplemental Assessment on Imports (2013 Amendment)

AGENCY: Agricultural Marketing Service, USDA.

ACTION: Direct Final Rule.

SUMMARY: The Agricultural Marketing Service (AMS) is amending the Cotton Board Rules and Regulations, decreasing the value assigned to imported cotton for the purposes of calculating supplemental assessments collected for use by the Cotton Research and Promotion Program. This amendment is required each year to assure that assessments collected on imported cotton and the cotton content of imported products will be the same as those paid on domestically produced cotton. In addition, AMS is changing two Harmonized Tariff Schedule (HTS) statistical reporting numbers that were amended since the last assessment adjustment in 2012.

DATES: This direct final rule is effective September 3, 2013, without further action or notice, unless significant adverse comment is received by August 1, 2013. If significant adverse comment is received, AMS will publish a timely withdrawal of the amendment in the Federal Register.

ADDRESSES: Written comments may be submitted to the addresses specified below. All comments will be made available to the public. Please do not include personally identifiable information (such as name, address, or other contact information) or confidential business information that you do not want publically disclosed. All comments may be posted on the Internet and can be retrieved by most Internet search engines. Comments may be submitted anonymously.

Comments, identified by AMS-CN-12-0065, may be submitted electronically through the Federal eRulemaking Portal at http://www.regulations.gov. Please follow the instructions for submitting comments. In addition, comments may be submitted by mail or hand delivery to Cotton Research and Promotion Staff, Cotton and Tobacco Programs, AMS, USDA, 100 Riverside Parkway, Suite 101, Fredericksburg, Virginia, 22406. Comments should be submitted in triplicate. All comments received will be made available for public inspection at Cotton and Tobacco Programs, AMS, USDA, 100 Riverside Parkway, Suite 101, Fredericksburg, Virginia, 22406. A copy of this notice may be found at: www.regulations.gov .

FOR FURTHER INFORMATION CONTACT: Shethir M. Riva, Chief, Research and Promotion Staff, Cotton and Tobacco Programs, AMS, USDA, 100 Riverside Parkway, Suite 101, Fredericksburg, Virginia, 22406, telephone (540) 361-2726, facsimile (540) 361-1199, or email at Shethir.Riva@ams.usda.gov.

SUPPLEMENTARY INFORMATION:

A. Background

Amendments to the Cotton Research and Promotion Act (7 U.S.C. 2101-2118) (Act) were enacted by Congress under Subtitle G of Title XIX of the Food, Agriculture, Conservation, and Trade Act of 1990 (Pub. L. 101-624, 104 stat. 3909, November 28, 1990). These amendments contained two provisions that authorize changes in the funding procedures for the Cotton Research and Promotion Program. These provisions provide for: (1) the assessment of imported cotton and cotton products; and (2) termination of refunds to cotton producers. (Prior the 1990 amendments to the Act, producers could request assessment refunds.)

As amended, the Cotton Research and Promotion Order (7 CFR part 1205) (Order) was approved by producers and importers voting in a referendum held July 17-26, 1991, and the amended Order was published in the Federal Register on December 10, 1991, (56 FR 64470). A proposed rule implementing the amended Order was published in the Federal Register on December 17, 1991, (56 FR 65450). Implementing rules were published on July 1 and 2, 1992, (57 FR 29181) and (57 FR 29431), respectively.

This direct final rule would amend the value assigned to imported cotton in the Cotton Board Rules and Regulations (7 CFR part 1205.510(b)(2)) that is used to determine the Cotton Research and Promotion assessment on imported cotton and cotton products. The total value of assessment levied on cotton imports is the sum of two parts. The first part of the assessment is based on the weight of cotton imported—levied at a rate of $1 per bale of cotton, which is equivalent to 500 pounds, or $1 per 226.8 kilograms of cotton. The second part of the import assessment (referred to as the supplemental assessment) is based on the value of imported cotton lint or the cotton contained in imported cotton products—levied at a rate of five-tenths of one percent of the value of domestically produced cotton.

Section 1205.510(b)(2) of the Cotton Research and Promotion Rules and Regulations provides for assigning the calendar year weighted average price received by U.S. farmers for Upland cotton to represent the value of imported cotton. This is so that the assessment on domestically produced cotton and the assessment on imported cotton and the cotton content of imported products is the same. The source for the average price statistic is Agricultural Prices, a publication of the National Agricultural Statistics Service (NASS) of the Department of Agriculture. Use of the weighted average price figure in the calculation of supplemental assessments on imported cotton and the cotton content of imported products will yield an assessment that is the same as assessments paid on domestically produced cotton.

The current value of imported cotton as published in 2012 in the Federal Register (77 FR 51867) for the purpose of calculating assessments on imported cotton is $0.014109 per kilogram. Using the Average Weighted Priced received by U.S. farmers for Upland cotton for the calendar year 2012, this direct final rule would amend the new value of imported cotton to $0.012876 per kilogram to reflect the price paid by U.S. farmers for Upland cotton during 2012.

An example of the complete assessment formula and how the figures are obtained is as follows:

One bale is equal to 500 pounds.

One kilogram equals 2.2046 pounds.

One pound equals 0.453597 kilograms.

One Dollar per Bale Assessment Converted to Kilograms

A 500-pound bale equals 226.8 kg. (500 × 0.453597).

$1 per bale assessment equals $0.002000 per pound or $0.2000 cents per pound (1/500) or $0.004409 per kg or $0.4409 cents per kg. (1/226.8).

Supplemental Assessment of 5/10 of One Percent of the Value of the Cotton Converted to Kilograms

The 2012 calendar year weighted average price received by producers for Upland cotton is $0.768 per pound or $1.693 per kg. (0.768 × 2.2046).

Five tenths of one percent of the average price equals $0.008467 per kg. (1.693 × 0.005).

Total Assessment

The total assessment per kilogram of raw cotton is obtained by adding the $1 per bale equivalent assessment of $0.004409 per kg. and the supplemental assessment $0.008467 per kg., which equals $0.012876 per kg.

The current assessment on imported cotton is $0.014109 per kilogram of imported cotton. The revised assessment in this direct final rule is $0.012876, a decrease of $0.001233 per kilogram. This decrease reflects the decrease in the average weighted price of Upland cotton received by U.S. Farmers during the period January through December 2012.

Import Assessment Table in section 1205.510(b)(3) indicates the total assessment rate ($ per kilogram) due for each HTS number that is subject to assessment. This table must be revised each year to reflect changes in supplemental assessment rates. In this direct final rule, AMS is amending the Import Assessment Table.

AMS also compared the current import assessment table with the U.S. International Trade Commission's (ITC) 2013 HTS and information from U.S. Customs and Border Protection and identified two HTS statistical reporting numbers that no longer exist in the HTS and that have been changed by ITC. In this direct final rule, AMS is amending the following HTS statistical reporting numbers for consistency with published ITC numbers:

2012 HTS codes | Revised 2013 HTS codes
5513390015 | 5513390115
5513390091 | 5513390191

AMS believes that these amendments are necessary to assure that assessments collected on imported cotton and the cotton content of imported products are the same as those paid on domestically produced cotton. Accordingly, changes reflected in this rule should be adopted and implemented as soon as possible since it is required by regulation.

B. Good Cause Finding That Proposed Rulemaking Unnecessary

Rulemaking under section 553 of the Administrative Procedure Act (5 U.S.C. 551 et seq.) ordinarily involves publication of a notice of proposed rulemaking in the Federal Register and the public is given an opportunity to comment on the proposed rule; however, an agency may issue a rule without prior notice and comment procedures if it determines for good cause that public notice and comment procedures are impracticable, unnecessary, or contrary to the public interest for such rule, and incorporates a statement of the finding with the underlying reasons in the final rule issued.

As described this Federal Register notice, the amendment to the value used to determine the Cotton Research and Promotion Program importer assessment will be updated to reflect the assessment already paid by U.S. farmers. For the reasons mentioned in section A of this preamble, AMS finds that publishing a proposed rule and seeking public comment is unnecessary because the change is required annually by regulation in 7 CFR part 1205.510.

Also, this direct-final rulemaking furthers the objectives of Executive Order 13563, which requires that the regulatory process “promote predictability and reduce uncertainty” and “identify and use the best, most innovative, and least burdensome tools for achieving regulatory ends.”

Notwithstanding the foregoing, in the “Proposed Rules” section of today's Federal Register, AMS is publishing a separate document that will serve as a notice of proposal to amend part 7 CFR part 1205 as described in this direct final rule. If AMS receives significant adverse comment during the comment period, it will publish, in a timely manner, a document in the Federal Register withdrawing this direct final rule. AMS will then address public comments in a subsequent final rule based on the proposed rule. AMS will not institute a second comment period on this rule. Any parties interested in commenting must do so during this comment period.

C. Regulatory Impact Analysis

Executive Order 12866

The Office of Management and Budget has waived the review process required by Executive Order 12866 for this action.

Executive Order 12988

This rule has been reviewed under Executive Order 12988, Civil Justice Reform. It is not intended to have retroactive effect. This rule would not preempt any state or local laws, regulations, or policies, unless they present an irreconcilable conflict with this rule.

The Cotton Research and Promotion Act (7 U.S.C. 2101-2118) (Act) provides that administrative proceedings must be exhausted before parties may file suit in court. Under section 12 of the Act, any person subject to an order may file with the Secretary of Agriculture (Secretary) a petition stating that the order, any provision of the plan, or any obligation imposed in connection with the order is not in accordance with law and requesting a modification of the order or to be exempted therefrom. Such person is afforded the opportunity for a hearing on the petition. After the hearing, the Secretary would rule on the petition. The Act provides that the District Court of the United States in any district in which the person is an inhabitant, or has his principal place of business, has jurisdiction to review the Secretary's ruling, provided a complaint is filed within 20 days from the date of the entry of ruling.

Regulatory Flexibility Act and Paperwork Reduction Act

In accordance with the Regulatory Flexibility Act (RFA) [5 U.S.C. 601-612], AMS has examined the economic impact of this rule on small entities. The purpose of the RFA is to fit regulatory actions to the scale of businesses subject to such action so that small businesses will not be unduly or disproportionately burdened. The Small Business Administration defines, in 13 CFR part 121, small agricultural producers as those having annual receipts of no more than $750,000 and small agricultural service firms (importers) as having receipts of no more than $7,000,000. In 2012, an estimated 17,000 importers are subject to the rules and regulations issued pursuant to the Cotton Research and Promotion Order. Most are considered small entities as defined by the Small Business Administration.

This rule would only affect importers of cotton and cotton-containing products and would lower the assessments paid by the importers under the Cotton Research and Promotion Order. The current assessment on imported cotton is $0.014109 per kilogram of imported cotton. The proposed assessment is $0.012876, which was calculated based on the 12-month weighted average of price received by U.S. cotton farmers. Section 1205.510, “Levy of assessments”, provides “the rate of the supplemental assessment on imported cotton will be the same as that levied on cotton produced within the United States.” In addition, section 1205.510 provides that the 12-month weighted average of prices received by U.S. farmers will be used as the value of imported cotton for the purpose of levying the supplemental assessment on imported cotton.

Under the Cotton Research and Promotion Program, assessments are used by the Cotton Board to finance research and promotion programs designed to increase consumer demand for Upland cotton in the United States and international markets. In 2011 (the last audited year), producer assessments totaled $45.5 million and importer assessments totaled $33.7 million. According to the Cotton Board, should the volume of cotton products imported into the U.S. remain at the same level in 2013, one could expect a decrease of assessments by approximately $3,735,200.

Importers with line-items appearing on U.S. Customs and Border Protection documentation with value of the cotton contained therein results of an assessment of two dollars ($2.00) or less will not be subject to assessments. In addition, imported cotton and products may be exempt from assessment if the cotton content of products is U.S. produced, cotton other than Upland, or imported products that are eligible to be labeled as 100 percent organic under the National Organic Program (7 CFR part 205) and who is not a split operation of organic and non-organic products.

There are no Federal rules that duplicate, overlap, or conflict with this rule.

In compliance with Office of Management and Budget (OMB) regulations (5 CFR part 1320) which implement the Paperwork Reduction Act (PRA) (44 U.S.C. Chapter 35) the information collection requirements contained in the regulation to be amended have been previously approved by OMB and were assigned control number 0581-0093, National Research, Promotion, and Consumer Information Programs. This rule does not result in a change to the information collection and recordkeeping requirements previously approved.

A 30-day comment period is provided to comment on the changes to the Cotton Board Rules and Regulations proposed herein. This period is deemed appropriate because this rule would decrease the assessments paid by importers under the Cotton Research and Promotion Order. An amendment is required to adjust the assessments collected on imported cotton and the cotton content of imported products to be the same as those paid on domestically produced cotton. Accordingly, the change in this rule, if adopted, should be implemented as soon as possible.

List of Subjects in 7 CFR Part 1205

Advertising, Agricultural research, Cotton, Marketing agreements, Reporting and recordkeeping requirements.

For the reasons set forth in the preamble, AMS amends 7 CFR part 1205 as follows:

PART 1205—COTTON RESEARCH AND PROMOTION

1. The authority citation for Part 1205 continues to read as follows:

Authority: 7 U.S.C. 2101-2118.

2. In § 1205.510, paragraph (b)(2) and the table in paragraph (b)(3)(ii) are revised to read as follows:

§ 1205.510 Levy of assessments.

* * * * *

(b) * * *

(2) The 12-month average of monthly weighted average prices received by U.S. farmers will be calculated annually. Such weighted average will be used as the value of imported cotton for the purpose of levying the supplemental assessment on imported cotton and will be expressed in kilograms. The value of imported cotton for the purpose of levying this supplemental assessment is $1.2876 cents per kilogram.

(3) * * *

(ii) * * *

Import Assessment Table
[Raw cotton fiber]
HTS No. | Conv. factor | Cents/kg.
5007106010 | 0.2713 | 0.3493
5007106020 | 0.2713 | 0.3493
5007906010 | 0.2713 | 0.3493
5007906020 | 0.2713 | 0.3493
5112904000 | 0.1085 | 0.1397
5112905000 | 0.1085 | 0.1397
5112909010 | 0.1085 | 0.1397
5112909090 | 0.1085 | 0.1397
5201000500 | 0 | 1.2876
5201001200 | 0 | 1.2876
5201001400 | 0 | 1.2876
5201001800 | 0 | 1.2876
5201002200 | 0 | 1.2876
5201002400 | 0 | 1.2876
5201002800 | 0 | 1.2876
5201003400 | 0 | 1.2876
5201003800 | 0 | 1.2876
5204110000 | 1.0526 | 1.3553
5204190000 | 0.6316 | 0.8132
5204200000 | 1.0526 | 1.3553
5205111000 | 1 | 1.2876
5205112000 | 1 | 1.2876
5205121000 | 1 | 1.2876
5205122000 | 1 | 1.2876
5205131000 | 1 | 1.2876
5205132000 | 1 | 1.2876
5205141000 | 1 | 1.2876
5205142000 | 1 | 1.2876
5205151000 | 1 | 1.2876
5205152000 | 1 | 1.2876
5205210020 | 1.044 | 1.3443
5205210090 | 1.044 | 1.3443
5205220020 | 1.044 | 1.3443
5205220090 | 1.044 | 1.3443
5205230020 | 1.044 | 1.3443
5205230090 | 1.044 | 1.3443
5205240020 | 1.044 | 1.3443
5205240090 | 1.044 | 1.3443
5205260020 | 1.044 | 1.3443
5205260090 | 1.044 | 1.3443
5205270020 | 1.044 | 1.3443
5205270090 | 1.044 | 1.3443
5205280020 | 1.044 | 1.3443
5205280090 | 1.044 | 1.3443
5205310000 | 1 | 1.2876
5205320000 | 1 | 1.2876
5205330000 | 1 | 1.2876
5205340000 | 1 | 1.2876
5205350000 | 1 | 1.2876
5205410020 | 1.044 | 1.3443
5205410090 | 1.044 | 1.3443
5205420021 | 1.044 | 1.3443
5205420029 | 1.044 | 1.3443
5205420090 | 1.044 | 1.3443
5205430021 | 1.044 | 1.3443
5205430029 | 1.044 | 1.3443
5205430090 | 1.044 | 1.3443
5205440021 | 1.044 | 1.3443
5205440029 | 1.044 | 1.3443
5205440090 | 1.044 | 1.3443
5205460021 | 1.044 | 1.3443
5205460029 | 1.044 | 1.3443
5205460090 | 1.044 | 1.3443
5205470021 | 1.044 | 1.3443
5205470029 | 1.044 | 1.3443
5205470090 | 1.044 | 1.3443
5205480020 | 1.044 | 1.3443
5205480090 | 1.044 | 1.3443
5206110000 | 0.7368 | 0.9487
5206120000 | 0.7368 | 0.9487
5206130000 | 0.7368 | 0.9487
5206140000 | 0.7368 | 0.9487
5206150000 | 0.7368 | 0.9487
5206210000 | 0.7692 | 0.9904
5206220000 | 0.7692 | 0.9904
5206230000 | 0.7692 | 0.9904
5206240000 | 0.7692 | 0.9904
5206250000 | 0.7692 | 0.9904
5206310000 | 0.7368 | 0.9487
5206320000 | 0.7368 | 0.9487
5206330000 | 0.7368 | 0.9487
5206340000 | 0.7368 | 0.9487
5206350000 | 0.7368 | 0.9487
5206410000 | 0.7692 | 0.9904
5206420000 | 0.7692 | 0.9904
5206430000 | 0.7692 | 0.9904
5206440000 | 0.7692 | 0.9904
5206450000 | 0.7692 | 0.9904
5207100000 | 0.9474 | 1.2199
5207900000 | 0.6316 | 0.8132
5208112020 | 1.0852 | 1.3973
5208112040 | 1.0852 | 1.3973
5208112090 | 1.0852 | 1.3973
5208114020 | 1.0852 | 1.3973
5208114040 | 1.0852 | 1.3973
5208114060 | 1.0852 | 1.3973
5208114090 | 1.0852 | 1.3973
5208116000 | 1.0852 | 1.3973
5208118020 | 1.0852 | 1.3973
5208118090 | 1.0852 | 1.3973
5208124020 | 1.0852 | 1.3973
5208124040 | 1.0852 | 1.3973
5208124090 | 1.0852 | 1.3973
5208126020 | 1.0852 | 1.3973
5208126040 | 1.0852 | 1.3973
5208126060 | 1.0852 | 1.3973
5208126090 | 1.0852 | 1.3973
5208128020 | 1.0852 | 1.3973
5208128090 | 1.0852 | 1.3973
5208130000 | 1.0852 | 1.3973
5208192020 | 1.0852 | 1.3973
5208192090 | 1.0852 | 1.3973
5208194020 | 1.0852 | 1.3973
5208194090 | 1.0852 | 1.3973
5208196020 | 1.0852 | 1.3973
5208196090 | 1.0852 | 1.3973
5208198020 | 1.0852 | 1.3973
5208198090 | 1.0852 | 1.3973
5208212020 | 1.0852 | 1.3973
5208212040 | 1.0852 | 1.3973
5208212090 | 1.0852 | 1.3973
5208214020 | 1.0852 | 1.3973
5208214040 | 1.0852 | 1.3973
5208214060 | 1.0852 | 1.3973
5208214090 | 1.0852 | 1.3973
5208216020 | 1.0852 | 1.3973
5208216090 | 1.0852 | 1.3973
5208224020 | 1.0852 | 1.3973
5208224040 | 1.0852 | 1.3973
5208224090 | 1.0852 | 1.3973
5208226020 | 1.0852 | 1.3973
5208226040 | 1.0852 | 1.3973
5208226060 | 1.0852 | 1.3973
5208226090 | 1.0852 | 1.3973
5208228020 | 1.0852 | 1.3973
5208228090 | 1.0852 | 1.3973
5208230000 | 1.0852 | 1.3973
5208292020 | 1.0852 | 1.3973
5208292090 | 1.0852 | 1.3973
5208294020 | 1.0852 | 1.3973
5208294090 | 1.0852 | 1.3973
5208296020 | 1.0852 | 1.3973
5208296090 | 1.0852 | 1.3973
5208298020 | 1.0852 | 1.3973
5208298090 | 1.0852 | 1.3973
5208312000 | 1.0852 | 1.3973
5208314020 | 1.0852 | 1.3973
5208314040 | 1.0852 | 1.3973
5208314090 | 1.0852 | 1.3973
5208316020 | 1.0852 | 1.3973
5208316040 | 1.0852 | 1.3973
5208316060 | 1.0852 | 1.3973
5208316090 | 1.0852 | 1.3973
5208318020 | 1.0852 | 1.3973
5208318090 | 1.0852 | 1.3973
5208321000 | 1.0852 | 1.3973
5208323020 | 1.0852 | 1.3973
5208323040 | 1.0852 | 1.3973
5208323090 | 1.0852 | 1.3973
5208324020 | 1.0852 | 1.3973
5208324040 | 1.0852 | 1.3973
5208324060 | 1.0852 | 1.3973
5208324090 | 1.0852 | 1.3973
5208325020 | 1.0852 | 1.3973
5208325090 | 1.0852 | 1.3973
5208330000 | 1.0852 | 1.3973
5208392020 | 1.0852 | 1.3973
5208392090 | 1.0852 | 1.3973
5208394020 | 1.0852 | 1.3973
5208394090 | 1.0852 | 1.3973
5208396020 | 1.0852 | 1.3973
5208396090 | 1.0852 | 1.3973
5208398020 | 1.0852 | 1.3973
5208398090 | 1.0852 | 1.3973
5208412000 | 1.0852 | 1.3973
5208414000 | 1.0852 | 1.3973
5208416000 | 1.0852 | 1.3973
5208418000 | 1.0852 | 1.3973
5208421000 | 1.0852 | 1.3973
5208423000 | 1.0852 | 1.3973
5208424000 | 1.0852 | 1.3973
5208425000 | 1.0852 | 1.3973
5208430000 | 1.0852 | 1.3973
5208492000 | 1.0852 | 1.3973
5208494010 | 1.0852 | 1.3973
5208494020 | 1.0852 | 1.3973
5208494090 | 1.0852 | 1.3973
5208496010 | 1.0852 | 1.3973
5208496020 | 1.0852 | 1.3973
5208496030 | 1.0852 | 1.3973
5208496090 | 1.0852 | 1.3973
5208498020 | 1.0852 | 1.3973
5208498090 | 1.0852 | 1.3973
5208512000 | 1.0852 | 1.3973
5208514020 | 1.0852 | 1.3973
5208514040 | 1.0852 | 1.3973
5208514090 | 1.0852 | 1.3973
5208516020 | 1.0852 | 1.3973
5208516040 | 1.0852 | 1.3973
5208516060 | 1.0852 | 1.3973
5208516090 | 1.0852 | 1.3973
5208518020 | 1.0852 | 1.3973
5208518090 | 1.0852 | 1.3973
5208521000 | 1.0852 | 1.3973
5208523020 | 1.0852 | 1.3973
5208523035 | 1.0852 | 1.3973
5208523045 | 1.0852 | 1.3973
5208523090 | 1.0852 | 1.3973
5208524020 | 1.0852 | 1.3973
5208524035 | 1.0852 | 1.3973
5208524045 | 1.0852 | 1.3973
5208524055 | 1.0852 | 1.3973
5208524065 | 1.0852 | 1.3973
5208524090 | 1.0852 | 1.3973
5208525020 | 1.0852 | 1.3973
5208525090 | 1.0852 | 1.3973
5208591000 | 1.0852 | 1.3973
5208592015 | 1.0852 | 1.3973
5208592025 | 1.0852 | 1.3973
5208592085 | 1.0852 | 1.3973
5208592095 | 1.0852 | 1.3973
5208594020 | 1.0852 | 1.3973
5208594090 | 1.0852 | 1.3973
5208596020 | 1.0852 | 1.3973
5208596090 | 1.0852 | 1.3973
5208598020 | 1.0852 | 1.3973
5208598090 | 1.0852 | 1.3973
5209110020 | 1.0309 | 1.3274
5209110025 | 1.0309 | 1.3274
5209110035 | 1.0309 | 1.3274
5209110050 | 1.0309 | 1.3274
5209110090 | 1.0309 | 1.3274
5209120020 | 1.0309 | 1.3274
5209120040 | 1.0309 | 1.3274
5209190020 | 1.0309 | 1.3274
5209190040 | 1.0309 | 1.3274
5209190060 | 1.0309 | 1.3274
5209190090 | 1.0309 | 1.3274
5209210020 | 1.0309 | 1.3274
5209210025 | 1.0309 | 1.3274
5209210035 | 1.0309 | 1.3274
5209210050 | 1.0309 | 1.3274
5209210090 | 1.0309 | 1.3274
5209220020 | 1.0309 | 1.3274
5209220040 | 1.0309 | 1.3274
5209290020 | 1.0309 | 1.3274
5209290040 | 1.0309 | 1.3274
5209290060 | 1.0309 | 1.3274
5209290090 | 1.0309 | 1.3274
5209313000 | 1.0309 | 1.3274
5209316020 | 1.0309 | 1.3274
5209316025 | 1.0309 | 1.3274
5209316035 | 1.0309 | 1.3274
5209316050 | 1.0309 | 1.3274
5209316090 | 1.0309 | 1.3274
5209320020 | 1.0309 | 1.3274
5209320040 | 1.0309 | 1.3274
5209390020 | 1.0309 | 1.3274
5209390040 | 1.0309 | 1.3274
5209390060 | 1.0309 | 1.3274
5209390080 | 1.0309 | 1.3274
5209390090 | 1.0309 | 1.3274
5209413000 | 1.0309 | 1.3274
5209416020 | 1.0309 | 1.3274
5209416040 | 1.0309 | 1.3274
5209420020 | 0.9767 | 1.2576
5209420040 | 0.9767 | 1.2576
5209420060 | 0.9767 | 1.2576
5209420080 | 0.9767 | 1.2576
5209430030 | 1.0309 | 1.3274
5209430050 | 1.0309 | 1.3274
5209490020 | 1.0309 | 1.3274
5209490040 | 1.0309 | 1.3274
5209490090 | 1.0309 | 1.3274
5209513000 | 1.0309 | 1.3274
5209516015 | 1.0852 | 1.3973
5209516025 | 1.0852 | 1.3973
5209516032 | 1.0852 | 1.3973
5209516035 | 1.0852 | 1.3973
5209516050 | 1.0852 | 1.3973
5209516090 | 1.0852 | 1.3973
5209520020 | 1.0852 | 1.3973
5209520040 | 1.0852 | 1.3973
5209590015 | 1.0852 | 1.3973
5209590025 | 1.0852 | 1.3973
5209590040 | 1.0852 | 1.3973
5209590060 | 1.0852 | 1.3973
5209590090 | 1.0852 | 1.3973
5210114020 | 0.6511 | 0.8384
5210114040 | 0.6511 | 0.8384
5210114090 | 0.6511 | 0.8384
5210116020 | 0.6511 | 0.8384
5210116040 | 0.6511 | 0.8384
5210116060 | 0.6511 | 0.8384
5210116090 | 0.6511 | 0.8384
5210118020 | 0.6511 | 0.8384
5210118090 | 0.6511 | 0.8384
5210191000 | 0.6511 | 0.8384
5210192020 | 0.6511 | 0.8384
5210192090 | 0.6511 | 0.8384
5210194020 | 0.6511 | 0.8384
5210194090 | 0.6511 | 0.8384
5210196020 | 0.6511 | 0.8384
5210196090 | 0.6511 | 0.8384
5210198020 | 0.6511 | 0.8384
5210198090 | 0.6511 | 0.8384
5210214020 | 0.6511 | 0.8384
5210214040 | 0.6511 | 0.8384
5210214090 | 0.6511 | 0.8384
5210216020 | 0.6511 | 0.8384
5210216040 | 0.6511 | 0.8384
5210216060 | 0.6511 | 0.8384
5210216090 | 0.6511 | 0.8384
5210218020 | 0.6511 | 0.8384
5210218090 | 0.6511 | 0.8384
5210291000 | 0.6511 | 0.8384
5210292020 | 0.6511 | 0.8384
5210292090 | 0.6511 | 0.8384
5210294020 | 0.6511 | 0.8384
5210294090 | 0.6511 | 0.8384
5210296020 | 0.6511 | 0.8384
5210296090 | 0.6511 | 0.8384
5210298020 | 0.6511 | 0.8384
5210298090 | 0.6511 | 0.8384
5210314020 | 0.6511 | 0.8384
5210314040 | 0.6511 | 0.8384
5210314090 | 0.6511 | 0.8384
5210316020 | 0.6511 | 0.8384
5210316040 | 0.6511 | 0.8384
5210316060 | 0.6511 | 0.8384
5210316090 | 0.6511 | 0.8384
5210318020 | 0.6511 | 0.8384
5210318090 | 0.6511 | 0.8384
5210320000 | 0.6511 | 0.8384
5210392020 | 0.6511 | 0.8384
5210392090 | 0.6511 | 0.8384
5210394020 | 0.6511 | 0.8384
5210394090 | 0.6511 | 0.8384
5210396020 | 0.6511 | 0.8384
5210396090 | 0.6511 | 0.8384
5210398020 | 0.6511 | 0.8384
5210398090 | 0.6511 | 0.8384
5210414000 | 0.6511 | 0.8384
5210416000 | 0.6511 | 0.8384
5210418000 | 0.6511 | 0.8384
5210491000 | 0.6511 | 0.8384
5210492000 | 0.6511 | 0.8384
5210494010 | 0.6511 | 0.8384
5210494020 | 0.6511 | 0.8384
5210494090 | 0.6511 | 0.8384
5210496010 | 0.6511 | 0.8384
5210496020 | 0.6511 | 0.8384
5210496090 | 0.6511 | 0.8384
5210498020 | 0.6511 | 0.8384
5210498090 | 0.6511 | 0.8384
5210514020 | 0.6511 | 0.8384
5210514040 | 0.6511 | 0.8384
5210514090 | 0.6511 | 0.8384
5210516020 | 0.6511 | 0.8384
5210516040 | 0.6511 | 0.8384
5210516060 | 0.6511 | 0.8384
5210516090 | 0.6511 | 0.8384
5210518020 | 0.6511 | 0.8384
5210518090 | 0.6511 | 0.8384
5210591000 | 0.6511 | 0.8384
5210592020 | 0.6511 | 0.8384
5210592090 | 0.6511 | 0.8384
5210594020 | 0.6511 | 0.8384
5210594090 | 0.6511 | 0.8384
5210596020 | 0.6511 | 0.8384
5210596090 | 0.6511 | 0.8384
5210598020 | 0.6511 | 0.8384
5210598090 | 0.6511 | 0.8384
5211110020 | 0.6511 | 0.8384
5211110025 | 0.6511 | 0.8384
5211110035 | 0.6511 | 0.8384
5211110050 | 0.6511 | 0.8384
5211110090 | 0.6511 | 0.8384
5211120020 | 0.6511 | 0.8384
5211120040 | 0.6511 | 0.8384
5211190020 | 0.6511 | 0.8384
5211190040 | 0.6511 | 0.8384
5211190060 | 0.6511 | 0.8384
5211190090 | 0.6511 | 0.8384
5211202120 | 0.6511 | 0.8384
5211202125 | 0.6511 | 0.8384
5211202135 | 0.6511 | 0.8384
5211202150 | 0.6511 | 0.8384
5211202190 | 0.6511 | 0.8384
5211202220 | 0.6511 | 0.8384
5211202240 | 0.6511 | 0.8384
5211202920 | 0.6511 | 0.8384
5211202940 | 0.6511 | 0.8384
5211202960 | 0.6511 | 0.8384
5211202990 | 0.6511 | 0.8384
5211310020 | 0.6511 | 0.8384
5211310025 | 0.6511 | 0.8384
5211310035 | 0.6511 | 0.8384
5211310050 | 0.6511 | 0.8384
5211310090 | 0.6511 | 0.8384
5211320020 | 0.6511 | 0.8384
5211320040 | 0.6511 | 0.8384
5211390020 | 0.6511 | 0.8384
5211390040 | 0.6511 | 0.8384
5211390060 | 0.6511 | 0.8384
5211390090 | 0.6511 | 0.8384
5211410020 | 0.6511 | 0.8384
5211410040 | 0.6511 | 0.8384
5211420020 | 0.7054 | 0.9083
5211420040 | 0.7054 | 0.9083
5211420060 | 0.6511 | 0.8384
5211420080 | 0.6511 | 0.8384
5211430030 | 0.6511 | 0.8384
5211430050 | 0.6511 | 0.8384
5211490020 | 0.6511 | 0.8384
5211490090 | 0.6511 | 0.8384
5211510020 | 0.6511 | 0.8384
5211510030 | 0.6511 | 0.8384
5211510050 | 0.6511 | 0.8384
5211510090 | 0.6511 | 0.8384
5211520020 | 0.6511 | 0.8384
5211520040 | 0.6511 | 0.8384
5211590015 | 0.6511 | 0.8384
5211590025 | 0.6511 | 0.8384
5211590040 | 0.6511 | 0.8384
5211590060 | 0.6511 | 0.8384
5211590090 | 0.6511 | 0.8384
5212111010 | 0.5845 | 0.7526
5212111020 | 0.6231 | 0.8023
5212116010 | 0.8681 | 1.1178
5212116020 | 0.8681 | 1.1178
5212116030 | 0.8681 | 1.1178
5212116040 | 0.8681 | 1.1178
5212116050 | 0.8681 | 1.1178
5212116060 | 0.8681 | 1.1178
5212116070 | 0.8681 | 1.1178
5212116080 | 0.8681 | 1.1178
5212116090 | 0.8681 | 1.1178
5212121010 | 0.5845 | 0.7526
5212121020 | 0.6231 | 0.8023
5212126010 | 0.8681 | 1.1178
5212126020 | 0.8681 | 1.1178
5212126030 | 0.8681 | 1.1178
5212126040 | 0.8681 | 1.1178
5212126050 | 0.8681 | 1.1178
5212126060 | 0.8681 | 1.1178
5212126070 | 0.8681 | 1.1178
5212126080 | 0.8681 | 1.1178
5212126090 | 0.8681 | 1.1178
5212131010 | 0.5845 | 0.7526
5212131020 | 0.6231 | 0.8023
5212136010 | 0.8681 | 1.1178
5212136020 | 0.8681 | 1.1178
5212136030 | 0.8681 | 1.1178
5212136040 | 0.8681 | 1.1178
5212136050 | 0.8681 | 1.1178
5212136060 | 0.8681 | 1.1178
5212136070 | 0.8681 | 1.1178
5212136080 | 0.8681 | 1.1178
5212136090 | 0.8681 | 1.1178
5212141010 | 0.5845 | 0.7526
5212141020 | 0.6231 | 0.8023
5212146010 | 0.8681 | 1.1178
5212146020 | 0.8681 | 1.1178
5212146030 | 0.8681 | 1.1178
5212146090 | 0.8681 | 1.1178
5212151010 | 0.5845 | 0.7526
5212151020 | 0.6231 | 0.8023
5212156010 | 0.8681 | 1.1178
5212156020 | 0.8681 | 1.1178
5212156030 | 0.8681 | 1.1178
5212156040 | 0.8681 | 1.1178
5212156050 | 0.8681 | 1.1178
5212156060 | 0.8681 | 1.1178
5212156070 | 0.8681 | 1.1178
5212156080 | 0.8681 | 1.1178
5212156090 | 0.8681 | 1.1178
5212211010 | 0.5845 | 0.7526
5212211020 | 0.6231 | 0.8023
5212216010 | 0.8681 | 1.1178
5212216020 | 0.8681 | 1.1178
5212216030 | 0.8681 | 1.1178
5212216040 | 0.8681 | 1.1178
5212216050 | 0.8681 | 1.1178
5212216060 | 0.8681 | 1.1178
5212216090 | 0.8681 | 1.1178
5212221010 | 0.5845 | 0.7526
5212221020 | 0.6231 | 0.8023
5212226010 | 0.8681 | 1.1178
5212226020 | 0.8681 | 1.1178
5212226030 | 0.8681 | 1.1178
5212226040 | 0.8681 | 1.1178
5212226050 | 0.8681 | 1.1178
5212226060 | 0.8681 | 1.1178
5212226090 | 0.8681 | 1.1178
5212231010 | 0.5845 | 0.7526
5212231020 | 0.6231 | 0.8023
5212236010 | 0.8681 | 1.1178
5212236020 | 0.8681 | 1.1178
5212236030 | 0.8681 | 1.1178
5212236040 | 0.8681 | 1.1178
5212236050 | 0.8681 | 1.1178
5212236060 | 0.8681 | 1.1178
5212236090 | 0.8681 | 1.1178
5212241010 | 0.5845 | 0.7526
5212241020 | 0.6231 | 0.8023
5212246010 | 0.8681 | 1.1178
5212246020 | 0.7054 | 0.9083
5212246030 | 0.8681 | 1.1178
5212246040 | 0.8681 | 1.1178
5212246090 | 0.8681 | 1.1178
5212251010 | 0.5845 | 0.7526
5212251020 | 0.6231 | 0.8023
5212256010 | 0.8681 | 1.1178
5212256020 | 0.8681 | 1.1178
5212256030 | 0.8681 | 1.1178
5212256040 | 0.8681 | 1.1178
5212256050 | 0.8681 | 1.1178
5212256060 | 0.8681 | 1.1178
5212256090 | 0.8681 | 1.1178
5309213005 | 0.5426 | 0.6987
5309213010 | 0.5426 | 0.6987
5309213015 | 0.5426 | 0.6987
5309213020 | 0.5426 | 0.6987
5309214010 | 0.2713 | 0.3493
5309214090 | 0.2713 | 0.3493
5309293005 | 0.5426 | 0.6987
5309293010 | 0.5426 | 0.6987
5309293015 | 0.5426 | 0.6987
5309293020 | 0.5426 | 0.6987
5309294010 | 0.2713 | 0.3493
5309294090 | 0.2713 | 0.3493
5311003005 | 0.5426 | 0.6987
5311003010 | 0.5426 | 0.6987
5311003015 | 0.5426 | 0.6987
5311003020 | 0.5426 | 0.6987
5311004010 | 0.8681 | 1.1178
5311004020 | 0.8681 | 1.1178
5407810010 | 0.5426 | 0.6987
5407810020 | 0.5426 | 0.6987
5407810030 | 0.5426 | 0.6987
5407810040 | 0.5426 | 0.6987
5407810090 | 0.5426 | 0.6987
5407820010 | 0.5426 | 0.6987
5407820020 | 0.5426 | 0.6987
5407820030 | 0.5426 | 0.6987
5407820040 | 0.5426 | 0.6987
5407820090 | 0.5426 | 0.6987
5407830010 | 0.5426 | 0.6987
5407830020 | 0.5426 | 0.6987
5407830030 | 0.5426 | 0.6987
5407830040 | 0.5426 | 0.6987
5407830090 | 0.5426 | 0.6987
5407840010 | 0.5426 | 0.6987
5407840020 | 0.5426 | 0.6987
5407840030 | 0.5426 | 0.6987
5407840040 | 0.5426 | 0.6987
5407840090 | 0.5426 | 0.6987
5509210000 | 0.1053 | 0.1356
5509220010 | 0.1053 | 0.1356
5509220090 | 0.1053 | 0.1356
5509530030 | 0.3158 | 0.4066
5509530060 | 0.3158 | 0.4066
5509620000 | 0.5263 | 0.6777
5509920000 | 0.5263 | 0.6777
5510300000 | 0.3684 | 0.4744
5511200000 | 0.3158 | 0.4066
5512110010 | 0.1085 | 0.1397
5512110022 | 0.1085 | 0.1397
5512110027 | 0.1085 | 0.1397
5512110030 | 0.1085 | 0.1397
5512110040 | 0.1085 | 0.1397
5512110050 | 0.1085 | 0.1397
5512110060 | 0.1085 | 0.1397
5512110070 | 0.1085 | 0.1397
5512110090 | 0.1085 | 0.1397
5512190005 | 0.1085 | 0.1397
5512190010 | 0.1085 | 0.1397
5512190015 | 0.1085 | 0.1397
5512190022 | 0.1085 | 0.1397
5512190027 | 0.1085 | 0.1397
5512190030 | 0.1085 | 0.1397
5512190035 | 0.1085 | 0.1397
5512190040 | 0.1085 | 0.1397
5512190045 | 0.1085 | 0.1397
5512190050 | 0.1085 | 0.1397
5512190090 | 0.1085 | 0.1397
5512210010 | 0.0326 | 0.0420
5512210020 | 0.0326 | 0.0420
5512210030 | 0.0326 | 0.0420
5512210040 | 0.0326 | 0.0420
5512210060 | 0.0326 | 0.0420
5512210070 | 0.0326 | 0.0420
5512210090 | 0.0326 | 0.0420
5512290010 | 0.217 | 0.2794
5512910010 | 0.0543 | 0.0699
5512990005 | 0.0543 | 0.0699
5512990010 | 0.0543 | 0.0699
5512990015 | 0.0543 | 0.0699
5512990020 | 0.0543 | 0.0699
5512990025 | 0.0543 | 0.0699
5512990030 | 0.0543 | 0.0699
5512990035 | 0.0543 | 0.0699
5512990040 | 0.0543 | 0.0699
5512990045 | 0.0543 | 0.0699
5512990090 | 0.0543 | 0.0699
5513110020 | 0.3581 | 0.4611
5513110040 | 0.3581 | 0.4611
5513110060 | 0.3581 | 0.4611
5513110090 | 0.3581 | 0.4611
5513120000 | 0.3581 | 0.4611
5513130020 | 0.3581 | 0.4611
5513130040 | 0.3581 | 0.4611
5513130090 | 0.3581 | 0.4611
5513190010 | 0.3581 | 0.4611
5513190020 | 0.3581 | 0.4611
5513190030 | 0.3581 | 0.4611
5513190040 | 0.3581 | 0.4611
5513190050 | 0.3581 | 0.4611
5513190060 | 0.3581 | 0.4611
5513190090 | 0.3581 | 0.4611
5513210020 | 0.3581 | 0.4611
5513210040 | 0.3581 | 0.4611
5513210060 | 0.3581 | 0.4611
5513210090 | 0.3581 | 0.4611
5513230121 | 0.3581 | 0.4611
5513230141 | 0.3581 | 0.4611
5513230191 | 0.3581 | 0.4611
5513290010 | 0.3581 | 0.4611
5513290020 | 0.3581 | 0.4611
5513290030 | 0.3581 | 0.4611
5513290040 | 0.3581 | 0.4611
5513290050 | 0.3581 | 0.4611
5513290060 | 0.3581 | 0.4611
5513290090 | 0.3581 | 0.4611
5513310000 | 0.3581 | 0.4611
5513390111 | 0.3581 | 0.4611
5513390115 | 0.3581 | 0.4611
5513390191 | 0.3581 | 0.4611
5513410020 | 0.3581 | 0.4611
5513410040 | 0.3581 | 0.4611
5513410060 | 0.3581 | 0.4611
5513410090 | 0.3581 | 0.4611
5513491000 | 0.3581 | 0.4611
5513492020 | 0.3581 | 0.4611
5513492040 | 0.3581 | 0.4611
5513492090 | 0.3581 | 0.4611
5513499010 | 0.3581 | 0.4611
5513499020 | 0.3581 | 0.4611
5513499030 | 0.3581 | 0.4611
5513499040 | 0.3581 | 0.4611
5513499050 | 0.3581 | 0.4611
5513499060 | 0.3581 | 0.4611
5513499090 | 0.3581 | 0.4611
5514110020 | 0.4341 | 0.5589
5514110030 | 0.4341 | 0.5589
5514110050 | 0.4341 | 0.5589
5514110090 | 0.4341 | 0.5589
5514120020 | 0.4341 | 0.5589
5514120040 | 0.4341 | 0.5589
5514191020 | 0.4341 | 0.5589
5514191040 | 0.4341 | 0.5589
5514191090 | 0.4341 | 0.5589
5514199010 | 0.4341 | 0.5589
5514199020 | 0.4341 | 0.5589
5514199030 | 0.4341 | 0.5589
5514199040 | 0.4341 | 0.5589
5514199090 | 0.4341 | 0.5589
5514210020 | 0.4341 | 0.5589
5514210030 | 0.4341 | 0.5589
5514210050 | 0.4341 | 0.5589
5514210090 | 0.4341 | 0.5589
5514220020 | 0.4341 | 0.5589
5514220040 | 0.4341 | 0.5589
5514230020 | 0.4341 | 0.5589
5514230040 | 0.4341 | 0.5589
5514230090 | 0.4341 | 0.5589
5514290010 | 0.4341 | 0.5589
5514290020 | 0.4341 | 0.5589
5514290030 | 0.4341 | 0.5589
5514290040 | 0.4341 | 0.5589
5514290090 | 0.4341 | 0.5589
5514303100 | 0.4341 | 0.5589
5514303210 | 0.4341 | 0.5589
5514303215 | 0.4341 | 0.5589
5514303280 | 0.4341 | 0.5589
5514303310 | 0.4341 | 0.5589
5514303390 | 0.4341 | 0.5589
5514303910 | 0.4341 | 0.5589
5514303920 | 0.4341 | 0.5589
5514303990 | 0.4341 | 0.5589
5514410020 | 0.4341 | 0.5589
5514410030 | 0.4341 | 0.5589
5514410050 | 0.4341 | 0.5589
5514410090 | 0.4341 | 0.5589
5514420020 | 0.4341 | 0.5589
5514420040 | 0.4341 | 0.5589
5514430020 | 0.4341 | 0.5589
5514430040 | 0.4341 | 0.5589
5514430090 | 0.4341 | 0.5589
5514490010 | 0.4341 | 0.5589
5514490020 | 0.4341 | 0.5589
5514490030 | 0.4341 | 0.5589
5514490040 | 0.4341 | 0.5589
5514490090 | 0.4341 | 0.5589
5515110005 | 0.1085 | 0.1397
5515110010 | 0.1085 | 0.1397
5515110015 | 0.1085 | 0.1397
5515110020 | 0.1085 | 0.1397
5515110025 | 0.1085 | 0.1397
5515110030 | 0.1085 | 0.1397
5515110035 | 0.1085 | 0.1397
5515110040 | 0.1085 | 0.1397
5515110045 | 0.1085 | 0.1397
5515110090 | 0.1085 | 0.1397
5515120010 | 0.1085 | 0.1397
5515120022 | 0.1085 | 0.1397
5515120027 | 0.1085 | 0.1397
5515120030 | 0.1085 | 0.1397
5515120040 | 0.1085 | 0.1397
5515120090 | 0.1085 | 0.1397
5515190005 | 0.1085 | 0.1397
5515190010 | 0.1085 | 0.1397
5515190015 | 0.1085 | 0.1397
5515190020 | 0.1085 | 0.1397
5515190025 | 0.1085 | 0.1397
5515190030 | 0.1085 | 0.1397
5515190035 | 0.1085 | 0.1397
5515190040 | 0.1085 | 0.1397
5515190045 | 0.1085 | 0.1397
5515190090 | 0.1085 | 0.1397
5515290005 | 0.1085 | 0.1397
5515290010 | 0.1085 | 0.1397
5515290015 | 0.1085 | 0.1397
5515290020 | 0.1085 | 0.1397
5515290025 | 0.1085 | 0.1397
5515290030 | 0.1085 | 0.1397
5515290035 | 0.1085 | 0.1397
5515290040 | 0.1085 | 0.1397
5515290045 | 0.1085 | 0.1397
5515290090 | 0.1085 | 0.1397
5515999005 | 0.1085 | 0.1397
5515999010 | 0.1085 | 0.1397
5515999015 | 0.1085 | 0.1397
5515999020 | 0.1085 | 0.1397
5515999025 | 0.1085 | 0.1397
5515999030 | 0.1085 | 0.1397
5515999035 | 0.1085 | 0.1397
5515999040 | 0.1085 | 0.1397
5515999045 | 0.1085 | 0.1397
5515999090 | 0.1085 | 0.1397
5516210010 | 0.1085 | 0.1397
5516210020 | 0.1085 | 0.1397
5516210030 | 0.1085 | 0.1397
5516210040 | 0.1085 | 0.1397
5516210090 | 0.1085 | 0.1397
5516220010 | 0.1085 | 0.1397
5516220020 | 0.1085 | 0.1397
5516220030 | 0.1085 | 0.1397
5516220040 | 0.1085 | 0.1397
5516220090 | 0.1085 | 0.1397
5516230010 | 0.1085 | 0.1397
5516230020 | 0.1085 | 0.1397
5516230030 | 0.1085 | 0.1397
5516230040 | 0.1085 | 0.1397
5516230090 | 0.1085 | 0.1397
5516240010 | 0.1085 | 0.1397
5516240020 | 0.1085 | 0.1397
5516240030 | 0.1085 | 0.1397
5516240040 | 0.1085 | 0.1397
5516240085 | 0.1085 | 0.1397
5516240095 | 0.1085 | 0.1397
5516410010 | 0.3798 | 0.4890
5516410022 | 0.3798 | 0.4890
5516410027 | 0.3798 | 0.4890
5516410030 | 0.3798 | 0.4890
5516410040 | 0.3798 | 0.4890
5516410050 | 0.3798 | 0.4890
5516410060 | 0.3798 | 0.4890
5516410070 | 0.3798 | 0.4890
5516410090 | 0.3798 | 0.4890
5516420010 | 0.3798 | 0.4890
5516420022 | 0.3798 | 0.4890
5516420027 | 0.3798 | 0.4890
5516420030 | 0.3798 | 0.4890
5516420040 | 0.3798 | 0.4890
5516420050 | 0.3798 | 0.4890
5516420060 | 0.3798 | 0.4890
5516420070 | 0.3798 | 0.4890
5516420090 | 0.3798 | 0.4890
5516430010 | 0.217 | 0.2794
5516430015 | 0.3798 | 0.4890
5516430020 | 0.3798 | 0.4890
5516430035 | 0.3798 | 0.4890
5516430080 | 0.3798 | 0.4890
5516440010 | 0.3798 | 0.4890
5516440022 | 0.3798 | 0.4890
5516440027 | 0.3798 | 0.4890
5516440030 | 0.3798 | 0.4890
5516440040 | 0.3798 | 0.4890
5516440050 | 0.3798 | 0.4890
5516440060 | 0.3798 | 0.4890
5516440070 | 0.3798 | 0.4890
5516440090 | 0.3798 | 0.4890
5516910010 | 0.0543 | 0.0699
5516910020 | 0.0543 | 0.0699
5516910030 | 0.0543 | 0.0699
5516910040 | 0.0543 | 0.0699
5516910050 | 0.0543 | 0.0699
5516910060 | 0.0543 | 0.0699
5516910070 | 0.0543 | 0.0699
5516910090 | 0.0543 | 0.0699
5516920010 | 0.0543 | 0.0699
5516920020 | 0.0543 | 0.0699
5516920030 | 0.0543 | 0.0699
5516920040 | 0.0543 | 0.0699
5516920050 | 0.0543 | 0.0699
5516920060 | 0.0543 | 0.0699
5516920070 | 0.0543 | 0.0699
5516920090 | 0.0543 | 0.0699
5516930010 | 0.0543 | 0.0699
5516930020 | 0.0543 | 0.0699
5516930090 | 0.0543 | 0.0699
5516940010 | 0.0543 | 0.0699
5516940020 | 0.0543 | 0.0699
5516940030 | 0.0543 | 0.0699
5516940040 | 0.0543 | 0.0699
5516940050 | 0.0543 | 0.0699
5516940060 | 0.0543 | 0.0699
5516940070 | 0.0543 | 0.0699
5516940090 | 0.0543 | 0.0699
5601210010 | 0.9767 | 1.2576
5601210090 | 0.9767 | 1.2576
5601220010 | 0.9767 | 1.2576
5601220090 | 0.9767 | 1.2576
5601300000 | 0.3256 | 0.4192
5602101000 | 0.0543 | 0.0699
5602109090 | 0.4341 | 0.5589
5602290000 | 0.4341 | 0.5589
5602906000 | 0.5426 | 0.6987
5602909000 | 0.3256 | 0.4192
5603143000 | 0.2713 | 0.3493
5603910010 | 0.0217 | 0.0279
5603910090 | 0.0651 | 0.0838
5603920010 | 0.0217 | 0.0279
5603920090 | 0.0651 | 0.0838
5603930010 | 0.0217 | 0.0279
5603930090 | 0.0651 | 0.0838
5603941090 | 0.3256 | 0.4192
5603943000 | 0.1628 | 0.2096
5603949010 | 0.0326 | 0.0420
5604100000 | 0.2632 | 0.3389
5604909000 | 0.2105 | 0.2710
5605009000 | 0.1579 | 0.2033
5606000010 | 0.1263 | 0.1626
5606000090 | 0.1263 | 0.1626
5607502500 | 0.1684 | 0.2168
5607909000 | 0.8421 | 1.0843
5608901000 | 1.0852 | 1.3973
5608902300 | 0.6316 | 0.8132
5608902700 | 0.6316 | 0.8132
5608903000 | 0.3158 | 0.4066
5609001000 | 0.8421 | 1.0843
5609004000 | 0.2105 | 0.2710
5701101300 | 0.0526 | 0.0677
5701101600 | 0.0526 | 0.0677
5701104000 | 0.0526 | 0.0677
5701109000 | 0.0526 | 0.0677
5701901010 | 1 | 1.2876
5701901020 | 1 | 1.2876
5701901030 | 0.0526 | 0.0677
5701901090 | 0.0526 | 0.0677
5701902010 | 0.9474 | 1.2199
5701902020 | 0.9474 | 1.2199
5701902030 | 0.0526 | 0.0677
5701902090 | 0.0526 | 0.0677
5702101000 | 0.0447 | 0.0576
5702109010 | 0.0447 | 0.0576
5702109020 | 0.85 | 1.0945
5702109030 | 0.0447 | 0.0576
5702109090 | 0.0447 | 0.0576
5702201000 | 0.0447 | 0.0576
5702311000 | 0.0447 | 0.0576
5702312000 | 0.0895 | 0.1152
5702322000 | 0.0895 | 0.1152
5702391000 | 0.0895 | 0.1152
5702392010 | 0.8053 | 1.0369
5702392090 | 0.0447 | 0.0576
5702411000 | 0.0447 | 0.0576
5702412000 | 0.0447 | 0.0576
5702421000 | 0.0895 | 0.1152
5702422020 | 0.0895 | 0.1152
5702422080 | 0.0895 | 0.1152
5702491020 | 0.8947 | 1.1520
5702491080 | 0.8947 | 1.1520
5702492000 | 0.0895 | 0.1152
5702502000 | 0.0895 | 0.1152
5702504000 | 0.0447 | 0.0576
5702505200 | 0.0895 | 0.1152
5702505600 | 0.85 | 1.0945
5702912000 | 0.0447 | 0.0576
5702913000 | 0.0447 | 0.0576
5702914000 | 0.0447 | 0.0576
5702921000 | 0.0447 | 0.0576
5702929000 | 0.0447 | 0.0576
5702990500 | 0.8947 | 1.1520
5702991500 | 0.8947 | 1.1520
5703201000 | 0.0452 | 0.0582
5703202010 | 0.0452 | 0.0582
5703302000 | 0.0452 | 0.0582
5703900000 | 0.3615 | 0.4655
5705001000 | 0.0452 | 0.0582
5705002005 | 0.0452 | 0.0582
5705002015 | 0.0452 | 0.0582
5705002020 | 0.7682 | 0.9891
5705002030 | 0.0452 | 0.0582
5705002090 | 0.1808 | 0.2328
5801210000 | 0.9767 | 1.2576
5801221000 | 0.9767 | 1.2576
5801229000 | 0.9767 | 1.2576
5801230000 | 0.9767 | 1.2576
5801260010 | 0.7596 | 0.9781
5801260020 | 0.7596 | 0.9781
5801271000 | 0.9767 | 1.2576
5801275010 | 1.0852 | 1.3973
5801275020 | 0.9767 | 1.2576
5801310000 | 0.217 | 0.2794
5801320000 | 0.217 | 0.2794
5801330000 | 0.217 | 0.2794
5801360010 | 0.217 | 0.2794
5801360020 | 0.217 | 0.2794
5802110000 | 1.0309 | 1.3274
5802190000 | 1.0309 | 1.3274
5802200020 | 0.1085 | 0.1397
5802200090 | 0.3256 | 0.4192
5802300030 | 0.4341 | 0.5589
5802300090 | 0.1085 | 0.1397
5803001000 | 1.0852 | 1.3973
5803002000 | 0.8681 | 1.1178
5803003000 | 0.8681 | 1.1178
5803005000 | 0.3256 | 0.4192
5804101000 | 0.4341 | 0.5589
5804109090 | 0.2193 | 0.2824
5804291000 | 0.8772 | 1.1295
5804300020 | 0.3256 | 0.4192
5805001000 | 0.1085 | 0.1397
5805003000 | 1.0852 | 1.3973
5806101000 | 0.8681 | 1.1178
5806103090 | 0.217 | 0.2794
5806200010 | 0.2577 | 0.3318
5806200090 | 0.2577 | 0.3318
5806310000 | 0.8681 | 1.1178
5806393080 | 0.217 | 0.2794
5806400000 | 0.0814 | 0.1048
5807100510 | 0.8681 | 1.1178
5807102010 | 0.8681 | 1.1178
5807900510 | 0.8681 | 1.1178
5807902010 | 0.8681 | 1.1178
5808104000 | 0.217 | 0.2794
5808107000 | 0.217 | 0.2794
5808900010 | 0.4341 | 0.5589
5810100000 | 0.3256 | 0.4192
5810910010 | 0.7596 | 0.9781
5810910020 | 0.7596 | 0.9781
5810921000 | 0.217 | 0.2794
5810929030 | 0.217 | 0.2794
5810929050 | 0.217 | 0.2794
5810929080 | 0.217 | 0.2794
5811002000 | 0.8681 | 1.1178
5901102000 | 0.5643 | 0.7266
5901904000 | 0.8139 | 1.0480
5903101000 | 0.4341 | 0.5589
5903103000 | 0.1085 | 0.1397
5903201000 | 0.4341 | 0.5589
5903203090 | 0.1085 | 0.1397
5903901000 | 0.4341 | 0.5589
5903903090 | 0.1085 | 0.1397
5904901000 | 0.0326 | 0.0420
5905001000 | 0.1085 | 0.1397
5905009000 | 0.1085 | 0.1397
5906100000 | 0.4341 | 0.5589
5906911000 | 0.4341 | 0.5589
5906913000 | 0.1085 | 0.1397
5906991000 | 0.4341 | 0.5589
5906993000 | 0.1085 | 0.1397
5907002500 | 0.3798 | 0.4890
5907003500 | 0.3798 | 0.4890
5907008090 | 0.3798 | 0.4890
5908000000 | 0.7813 | 1.0060
5909001000 | 0.6837 | 0.8803
5909002000 | 0.4883 | 0.6287
5910001010 | 0.3798 | 0.4890
5910001020 | 0.3798 | 0.4890
5910001030 | 0.3798 | 0.4890
5910001060 | 0.3798 | 0.4890
5910001070 | 0.3798 | 0.4890
5910001090 | 0.6837 | 0.8803
5910009000 | 0.5697 | 0.7335
5911101000 | 0.1736 | 0.2235
5911102000 | 0.0434 | 0.0559
5911201000 | 0.4341 | 0.5589
5911310010 | 0.4341 | 0.5589
5911310020 | 0.4341 | 0.5589
5911310030 | 0.4341 | 0.5589
5911310080 | 0.4341 | 0.5589
5911320010 | 0.4341 | 0.5589
5911320020 | 0.4341 | 0.5589
5911320030 | 0.4341 | 0.5589
5911320080 | 0.4341 | 0.5589
5911400000 | 0.5426 | 0.6987
5911900040 | 0.3158 | 0.4066
5911900080 | 0.2105 | 0.2710
6001106000 | 0.1096 | 0.1411
6001210000 | 0.9868 | 1.2706
6001220000 | 0.1096 | 0.1411
6001290000 | 0.1096 | 0.1411
6001910010 | 0.8772 | 1.1295
6001910020 | 0.8772 | 1.1295
6001920010 | 0.0548 | 0.0706
6001920020 | 0.0548 | 0.0706
6001920030 | 0.0548 | 0.0706
6001920040 | 0.0548 | 0.0706
6001999000 | 0.1096 | 0.1411
6002404000 | 0.7401 | 0.9530
6002408020 | 0.1974 | 0.2542
6002408080 | 0.1974 | 0.2542
6002904000 | 0.7895 | 1.0166
6002908020 | 0.1974 | 0.2542
6002908080 | 0.1974 | 0.2542
6003201000 | 0.8772 | 1.1295
6003203000 | 0.8772 | 1.1295
6003301000 | 0.1096 | 0.1411
6003306000 | 0.1096 | 0.1411
6003401000 | 0.1096 | 0.1411
6003406000 | 0.1096 | 0.1411
6003901000 | 0.1096 | 0.1411
6003909000 | 0.1096 | 0.1411
6004100010 | 0.2961 | 0.3813
6004100025 | 0.2961 | 0.3813
6004100085 | 0.2961 | 0.3813
6004902010 | 0.2961 | 0.3813
6004902025 | 0.2961 | 0.3813
6004902085 | 0.2961 | 0.3813
6004909000 | 0.2961 | 0.3813
6005210000 | 0.7127 | 0.9177
6005220000 | 0.7127 | 0.9177
6005230000 | 0.7127 | 0.9177
6005240000 | 0.7127 | 0.9177
6005310010 | 0.1096 | 0.1411
6005310080 | 0.1096 | 0.1411
6005320010 | 0.1096 | 0.1411
6005320080 | 0.1096 | 0.1411
6005330010 | 0.1096 | 0.1411
6005330080 | 0.1096 | 0.1411
6005340010 | 0.1096 | 0.1411
6005340080 | 0.1096 | 0.1411
6005410010 | 0.1096 | 0.1411
6005410080 | 0.1096 | 0.1411
6005420010 | 0.1096 | 0.1411
6005420080 | 0.1096 | 0.1411
6005430010 | 0.1096 | 0.1411
6005430080 | 0.1096 | 0.1411
6005440010 | 0.1096 | 0.1411
6005440080 | 0.1096 | 0.1411
6005909000 | 0.1096 | 0.1411
6006211000 | 1.0965 | 1.4119
6006219020 | 0.7675 | 0.9882
6006219080 | 0.7675 | 0.9882
6006221000 | 1.0965 | 1.4119
6006229020 | 0.7675 | 0.9882
6006229080 | 0.7675 | 0.9882
6006231000 | 1.0965 | 1.4119
6006239020 | 0.7675 | 0.9882
6006239080 | 0.7675 | 0.9882
6006241000 | 1.0965 | 1.4119
6006249020 | 0.7675 | 0.9882
6006249080 | 0.7675 | 0.9882
6006310020 | 0.3289 | 0.4235
6006310040 | 0.3289 | 0.4235
6006310060 | 0.3289 | 0.4235
6006310080 | 0.3289 | 0.4235
6006320020 | 0.3289 | 0.4235
6006320040 | 0.3289 | 0.4235
6006320060 | 0.3289 | 0.4235
6006320080 | 0.3289 | 0.4235
6006330020 | 0.3289 | 0.4235
6006330040 | 0.3289 | 0.4235
6006330060 | 0.3289 | 0.4235
6006330080 | 0.3289 | 0.4235
6006340020 | 0.3289 | 0.4235
6006340040 | 0.3289 | 0.4235
6006340060 | 0.3289 | 0.4235
6006340080 | 0.3289 | 0.4235
6006410025 | 0.3289 | 0.4235
6006410085 | 0.3289 | 0.4235
6006420025 | 0.3289 | 0.4235
6006420085 | 0.3289 | 0.4235
6006430025 | 0.3289 | 0.4235
6006430085 | 0.3289 | 0.4235
6006440025 | 0.3289 | 0.4235
6006440085 | 0.3289 | 0.4235
6006909000 | 0.1096 | 0.1411
6101200010 | 1.02 | 1.3134
6101200020 | 1.02 | 1.3134
6101301000 | 0.2072 | 0.2668
6101900500 | 0.1912 | 0.2462
6101909010 | 0.5737 | 0.7387
6101909030 | 0.51 | 0.6567
6101909060 | 0.255 | 0.3283
6102100000 | 0.255 | 0.3283
6102200010 | 0.9562 | 1.2312
6102200020 | 0.9562 | 1.2312
6102300500 | 0.1785 | 0.2298
6102909005 | 0.5737 | 0.7387
6102909015 | 0.4462 | 0.5745
6102909030 | 0.255 | 0.3283
6103101000 | 0.0637 | 0.0820
6103104000 | 0.1218 | 0.1568
6103105000 | 0.1218 | 0.1568
6103106010 | 0.8528 | 1.0981
6103106015 | 0.8528 | 1.0981
6103106030 | 0.8528 | 1.0981
6103109010 | 0.5482 | 0.7059
6103109020 | 0.5482 | 0.7059
6103109030 | 0.5482 | 0.7059
6103109040 | 0.1218 | 0.1568
6103109050 | 0.1218 | 0.1568
6103109080 | 0.1827 | 0.2352
6103320000 | 0.8722 | 1.1230
6103398010 | 0.7476 | 0.9626
6103398030 | 0.3738 | 0.4813
6103398060 | 0.2492 | 0.3209
6103411010 | 0.3576 | 0.4604
6103411020 | 0.3576 | 0.4604
6103412000 | 0.3576 | 0.4604
6103421020 | 0.8343 | 1.0742
6103421035 | 0.8343 | 1.0742
6103421040 | 0.8343 | 1.0742
6103421050 | 0.8343 | 1.0742
6103421065 | 0.8343 | 1.0742
6103421070 | 0.8343 | 1.0742
6103422010 | 0.8343 | 1.0742
6103422015 | 0.8343 | 1.0742
6103422025 | 0.8343 | 1.0742
6103431520 | 0.2384 | 0.3070
6103431535 | 0.2384 | 0.3070
6103431540 | 0.2384 | 0.3070
6103431550 | 0.2384 | 0.3070
6103431565 | 0.2384 | 0.3070
6103431570 | 0.2384 | 0.3070
6103432020 | 0.2384 | 0.3070
6103432025 | 0.2384 | 0.3070
6103491020 | 0.2437 | 0.3138
6103491060 | 0.2437 | 0.3138
6103492000 | 0.2437 | 0.3138
6103498010 | 0.5482 | 0.7059
6103498014 | 0.3655 | 0.4706
6103498024 | 0.2437 | 0.3138
6103498026 | 0.2437 | 0.3138
6103498034 | 0.5482 | 0.7059
6103498038 | 0.3655 | 0.4706
6103498060 | 0.2437 | 0.3138
6104196010 | 0.8722 | 1.1230
6104196020 | 0.8722 | 1.1230
6104196030 | 0.8722 | 1.1230
6104196040 | 0.8722 | 1.1230
6104198010 | 0.5607 | 0.7220
6104198020 | 0.5607 | 0.7220
6104198030 | 0.5607 | 0.7220
6104198040 | 0.5607 | 0.7220
6104198060 | 0.3738 | 0.4813
6104198090 | 0.2492 | 0.3209
6104320000 | 0.8722 | 1.1230
6104392010 | 0.5607 | 0.7220
6104392030 | 0.3738 | 0.4813
6104392090 | 0.2492 | 0.3209
6104420010 | 0.8528 | 1.0981
6104420020 | 0.8528 | 1.0981
6104499010 | 0.5482 | 0.7059
6104499030 | 0.3655 | 0.4706
6104499060 | 0.2437 | 0.3138
6104520010 | 0.8822 | 1.1359
6104520020 | 0.8822 | 1.1359
6104598010 | 0.5672 | 0.7303
6104598030 | 0.3781 | 0.4868
6104598090 | 0.2521 | 0.3246
6104610010 | 0.2384 | 0.3070
6104610020 | 0.2384 | 0.3070
6104610030 | 0.2384 | 0.3070
6104621010 | 0.7509 | 0.9669
6104621020 | 0.8343 | 1.0742
6104621030 | 0.8343 | 1.0742
6104622006 | 0.7151 | 0.9208
6104622011 | 0.8343 | 1.0742
6104622016 | 0.7151 | 0.9208
6104622021 | 0.8343 | 1.0742
6104622026 | 0.7151 | 0.9208
6104622028 | 0.8343 | 1.0742
6104622030 | 0.8343 | 1.0742
6104622050 | 0.8343 | 1.0742
6104622060 | 0.8343 | 1.0742
6104631020 | 0.2384 | 0.3070
6104631030 | 0.2384 | 0.3070
6104632006 | 0.8343 | 1.0742
6104632011 | 0.8343 | 1.0742
6104632016 | 0.7151 | 0.9208
6104632021 | 0.8343 | 1.0742
6104632026 | 0.3576 | 0.4604
6104632028 | 0.3576 | 0.4604
6104632030 | 0.3576 | 0.4604
6104632050 | 0.7151 | 0.9208
6104632060 | 0.3576 | 0.4604
6104691000 | 0.3655 | 0.4706
6104692030 | 0.3655 | 0.4706
6104692060 | 0.3655 | 0.4706
6104698010 | 0.5482 | 0.7059
6104698014 | 0.3655 | 0.4706
6104698020 | 0.2437 | 0.3138
6104698022 | 0.5482 | 0.7059
6104698026 | 0.3655 | 0.4706
6104698038 | 0.2437 | 0.3138
6104698040 | 0.2437 | 0.3138
6105100010 | 0.9332 | 1.2016
6105100020 | 0.9332 | 1.2016
6105100030 | 0.9332 | 1.2016
6105202010 | 0.2916 | 0.3755
6105202020 | 0.2916 | 0.3755
6105202030 | 0.2916 | 0.3755
6105908010 | 0.5249 | 0.6759
6105908030 | 0.3499 | 0.4505
6105908060 | 0.2333 | 0.3004
6106100010 | 0.9332 | 1.2016
6106100020 | 0.9332 | 1.2016
6106100030 | 0.9332 | 1.2016
6106202010 | 0.2916 | 0.3755
6106202020 | 0.4666 | 0.6008
6106202030 | 0.2916 | 0.3755
6106901500 | 0.0583 | 0.0751
6106902510 | 0.5249 | 0.6759
6106902530 | 0.3499 | 0.4505
6106902550 | 0.2916 | 0.3755
6106903010 | 0.5249 | 0.6759
6106903030 | 0.3499 | 0.4505
6106903040 | 0.2916 | 0.3755
6107110010 | 1.0727 | 1.3812
6107110020 | 1.0727 | 1.3812
6107120010 | 0.4767 | 0.6138
6107120020 | 0.4767 | 0.6138
6107191000 | 0.1192 | 0.1535
6107210010 | 0.8343 | 1.0742
6107210020 | 0.7151 | 0.9208
6107220010 | 0.3576 | 0.4604
6107220015 | 0.1192 | 0.1535
6107220025 | 0.2384 | 0.3070
6107299000 | 0.1788 | 0.2302
6107910030 | 1.1918 | 1.5346
6107910040 | 1.1918 | 1.5346
6107910090 | 0.9535 | 1.2277
6107991030 | 0.3576 | 0.4604
6107991040 | 0.3576 | 0.4604
6107991090 | 0.3576 | 0.4604
6107999000 | 0.1192 | 0.1535
6108199010 | 1.0611 | 1.3663
6108199030 | 0.2358 | 0.3036
6108210010 | 1.179 | 1.5181
6108210020 | 1.179 | 1.5181
6108299000 | 0.3537 | 0.4554
6108310010 | 1.0611 | 1.3663
6108310020 | 1.0611 | 1.3663
6108320010 | 0.2358 | 0.3036
6108320015 | 0.2358 | 0.3036
6108320025 | 0.2358 | 0.3036
6108398000 | 0.3537 | 0.4554
6108910005 | 1.179 | 1.5181
6108910015 | 1.179 | 1.5181
6108910025 | 1.179 | 1.5181
6108910030 | 1.179 | 1.5181
6108910040 | 1.179 | 1.5181
6108920005 | 0.2358 | 0.3036
6108920015 | 0.2358 | 0.3036
6108920025 | 0.2358 | 0.3036
6108920030 | 0.2358 | 0.3036
6108920040 | 0.2358 | 0.3036
6108999000 | 0.3537 | 0.4554
6109100004 | 1.0022 | 1.2904
6109100007 | 1.0022 | 1.2904
6109100011 | 1.0022 | 1.2904
6109100012 | 1.0022 | 1.2904
6109100014 | 1.0022 | 1.2904
6109100018 | 1.0022 | 1.2904
6109100023 | 1.0022 | 1.2904
6109100027 | 1.0022 | 1.2904
6109100037 | 1.0022 | 1.2904
6109100040 | 1.0022 | 1.2904
6109100045 | 1.0022 | 1.2904
6109100060 | 1.0022 | 1.2904
6109100065 | 1.0022 | 1.2904
6109100070 | 1.0022 | 1.2904
6109901007 | 0.2948 | 0.3796
6109901009 | 0.2948 | 0.3796
6109901013 | 0.2948 | 0.3796
6109901025 | 0.2948 | 0.3796
6109901047 | 0.2948 | 0.3796
6109901049 | 0.2948 | 0.3796
6109901050 | 0.2948 | 0.3796
6109901060 | 0.2948 | 0.3796
6109901065 | 0.2948 | 0.3796
6109901070 | 0.2948 | 0.3796
6109901075 | 0.2948 | 0.3796
6109901090 | 0.2948 | 0.3796
6109908010 | 0.3499 | 0.4505
6109908030 | 0.2333 | 0.3004
6110201010 | 0.7476 | 0.9626
6110201020 | 0.7476 | 0.9626
6110201022 | 0.7476 | 0.9626
6110201024 | 0.7476 | 0.9626
6110201026 | 0.7476 | 0.9626
6110201029 | 0.7476 | 0.9626
6110201031 | 0.7476 | 0.9626
6110201033 | 0.7476 | 0.9626
6110202005 | 1.1214 | 1.4439
6110202010 | 1.1214 | 1.4439
6110202015 | 1.1214 | 1.4439
6110202020 | 1.1214 | 1.4439
6110202025 | 1.1214 | 1.4439
6110202030 | 1.1214 | 1.4439
6110202035 | 1.1214 | 1.4439
6110202040 | 1.0965 | 1.4119
6110202045 | 1.0965 | 1.4119
6110202067 | 1.0965 | 1.4119
6110202069 | 1.0965 | 1.4119
6110202077 | 1.0965 | 1.4119
6110202079 | 1.0965 | 1.4119
6110909010 | 0.5607 | 0.7220
6110909012 | 0.1246 | 0.1604
6110909014 | 0.3738 | 0.4813
6110909020 | 0.2492 | 0.3209
6110909022 | 0.2492 | 0.3209
6110909024 | 0.2492 | 0.3209
6110909026 | 0.5607 | 0.7220
6110909028 | 0.1869 | 0.2407
6110909030 | 0.3738 | 0.4813
6110909038 | 0.2492 | 0.3209
6110909040 | 0.2492 | 0.3209
6110909042 | 0.2492 | 0.3209
6110909044 | 0.5607 | 0.7220
6110909046 | 0.5607 | 0.7220
6110909052 | 0.3738 | 0.4813
6110909054 | 0.3738 | 0.4813
6110909064 | 0.2492 | 0.3209
6110909066 | 0.2492 | 0.3209
6110909067 | 0.5607 | 0.7220
6110909069 | 0.5607 | 0.7220
6110909071 | 0.5607 | 0.7220
6110909073 | 0.5607 | 0.7220
6110909079 | 0.3738 | 0.4813
6110909080 | 0.3738 | 0.4813
6110909081 | 0.3738 | 0.4813
6110909082 | 0.3738 | 0.4813
6110909088 | 0.2492 | 0.3209
6110909090 | 0.2492 | 0.3209
6111201000 | 1.1918 | 1.5346
6111202000 | 1.1918 | 1.5346
6111203000 | 0.9535 | 1.2277
6111204000 | 0.9535 | 1.2277
6111205000 | 0.9535 | 1.2277
6111206010 | 0.9535 | 1.2277
6111206020 | 0.9535 | 1.2277
6111206030 | 0.9535 | 1.2277
6111206050 | 0.9535 | 1.2277
6111206070 | 0.9535 | 1.2277
6111301000 | 0.2384 | 0.3070
6111302000 | 0.2384 | 0.3070
6111303000 | 0.2384 | 0.3070
6111304000 | 0.2384 | 0.3070
6111305010 | 0.2384 | 0.3070
6111305015 | 0.2384 | 0.3070
6111305020 | 0.2384 | 0.3070
6111305030 | 0.2384 | 0.3070
6111305050 | 0.2384 | 0.3070
6111305070 | 0.2384 | 0.3070
6111901000 | 0.2384 | 0.3070
6111902000 | 0.2384 | 0.3070
6111903000 | 0.2384 | 0.3070
6111904000 | 0.2384 | 0.3070
6111905010 | 0.2384 | 0.3070
6111905020 | 0.2384 | 0.3070
6111905030 | 0.2384 | 0.3070
6111905050 | 0.2384 | 0.3070
6111905070 | 0.2384 | 0.3070
6112110010 | 0.9535 | 1.2277
6112110020 | 0.9535 | 1.2277
6112110030 | 0.9535 | 1.2277
6112110040 | 0.9535 | 1.2277
6112110050 | 0.9535 | 1.2277
6112110060 | 0.9535 | 1.2277
6112120010 | 0.2384 | 0.3070
6112120020 | 0.2384 | 0.3070
6112120030 | 0.2384 | 0.3070
6112120040 | 0.2384 | 0.3070
6112120050 | 0.2384 | 0.3070
6112120060 | 0.2384 | 0.3070
6112191010 | 0.2492 | 0.3209
6112191020 | 0.2492 | 0.3209
6112191030 | 0.2492 | 0.3209
6112191040 | 0.2492 | 0.3209
6112191050 | 0.2492 | 0.3209
6112191060 | 0.2492 | 0.3209
6112201060 | 0.2492 | 0.3209
6112201070 | 0.2492 | 0.3209
6112201080 | 0.2492 | 0.3209
6112201090 | 0.2492 | 0.3209
6112202010 | 0.8722 | 1.1230
6112202020 | 0.3738 | 0.4813
6112202030 | 0.2492 | 0.3209
6112310010 | 0.1192 | 0.1535
6112310020 | 0.1192 | 0.1535
6112390010 | 1.0727 | 1.3812
6112410010 | 0.1192 | 0.1535
6112410020 | 0.1192 | 0.1535
6112410030 | 0.1192 | 0.1535
6112410040 | 0.1192 | 0.1535
6112490010 | 0.8939 | 1.1510
6113001005 | 0.1246 | 0.1604
6113001010 | 0.1246 | 0.1604
6113001012 | 0.1246 | 0.1604
6113009015 | 0.3489 | 0.4492
6113009020 | 0.3489 | 0.4492
6113009038 | 0.3489 | 0.4492
6113009042 | 0.3489 | 0.4492
6113009055 | 0.3489 | 0.4492
6113009060 | 0.3489 | 0.4492
6113009074 | 0.3489 | 0.4492
6113009082 | 0.3489 | 0.4492
6114200005 | 0.9747 | 1.2550
6114200010 | 0.9747 | 1.2550
6114200015 | 0.8528 | 1.0981
6114200020 | 0.8528 | 1.0981
6114200035 | 0.8528 | 1.0981
6114200040 | 0.8528 | 1.0981
6114200042 | 0.3655 | 0.4706
6114200044 | 0.8528 | 1.0981
6114200046 | 0.8528 | 1.0981
6114200048 | 0.8528 | 1.0981
6114200052 | 0.8528 | 1.0981
6114200055 | 0.8528 | 1.0981
6114200060 | 0.8528 | 1.0981
6114301010 | 0.2437 | 0.3138
6114301020 | 0.2437 | 0.3138
6114302060 | 0.1218 | 0.1568
6114303014 | 0.2437 | 0.3138
6114303020 | 0.2437 | 0.3138
6114303030 | 0.2437 | 0.3138
6114303042 | 0.2437 | 0.3138
6114303044 | 0.2437 | 0.3138
6114303052 | 0.2437 | 0.3138
6114303054 | 0.2437 | 0.3138
6114303060 | 0.2437 | 0.3138
6114303070 | 0.2437 | 0.3138
6114909045 | 0.5482 | 0.7059
6114909055 | 0.3655 | 0.4706
6114909070 | 0.3655 | 0.4706
6115100500 | 0.4386 | 0.5647
6115101510 | 1.0965 | 1.4119
6115103000 | 0.9868 | 1.2706
6115106000 | 0.1096 | 0.1411
6115298010 | 1.0965 | 1.4119
6115309030 | 0.7675 | 0.9882
6115956000 | 0.9868 | 1.2706
6115959000 | 0.9868 | 1.2706
6115966020 | 0.2193 | 0.2824
6115991420 | 0.2193 | 0.2824
6115991920 | 0.2193 | 0.2824
6115999000 | 0.1096 | 0.1411
6116101300 | 0.3463 | 0.4459
6116101720 | 0.8079 | 1.0403
6116104810 | 0.4444 | 0.5722
6116105510 | 0.6464 | 0.8323
6116107510 | 0.6464 | 0.8323
6116109500 | 0.1616 | 0.2081
6116920500 | 0.8079 | 1.0403
6116920800 | 0.8079 | 1.0403
6116926410 | 1.0388 | 1.3376
6116926420 | 1.0388 | 1.3376
6116926430 | 1.1542 | 1.4861
6116926440 | 1.0388 | 1.3376
6116927450 | 1.0388 | 1.3376
6116927460 | 1.1542 | 1.4861
6116927470 | 1.0388 | 1.3376
6116928800 | 1.0388 | 1.3376
6116929400 | 1.0388 | 1.3376
6116938800 | 0.1154 | 0.1486
6116939400 | 0.1154 | 0.1486
6116994800 | 0.1154 | 0.1486
6116995400 | 0.1154 | 0.1486
6116999510 | 0.4617 | 0.5945
6116999530 | 0.3463 | 0.4459
6117106010 | 0.9234 | 1.1890
6117106020 | 0.2308 | 0.2972
6117808500 | 0.9234 | 1.1890
6117808710 | 1.1542 | 1.4861
6117808770 | 0.1731 | 0.2229
6117809510 | 0.9234 | 1.1890
6117809540 | 0.3463 | 0.4459
6117809570 | 0.1731 | 0.2229
6117909003 | 1.1542 | 1.4861
6117909015 | 0.2308 | 0.2972
6117909020 | 1.1542 | 1.4861
6117909040 | 1.1542 | 1.4861
6117909060 | 1.1542 | 1.4861
6117909080 | 1.1542 | 1.4861
6201121000 | 0.8981 | 1.1564
6201122010 | 0.8482 | 1.0921
6201122020 | 0.8482 | 1.0921
6201122025 | 0.9979 | 1.2849
6201122035 | 0.9979 | 1.2849
6201122050 | 0.6486 | 0.8351
6201122060 | 0.6486 | 0.8351
6201134015 | 0.1996 | 0.2570
6201134020 | 0.1996 | 0.2570
6201134030 | 0.2495 | 0.3213
6201134040 | 0.2495 | 0.3213
6201199010 | 0.5613 | 0.7227
6201199030 | 0.3742 | 0.4818
6201199060 | 0.3742 | 0.4818
6201921000 | 0.8779 | 1.1304
6201921500 | 1.0974 | 1.4130
6201922005 | 0.9754 | 1.2559
6201922010 | 0.9754 | 1.2559
6201922021 | 1.2193 | 1.5700
6201922031 | 1.2193 | 1.5700
6201922041 | 1.2193 | 1.5700
6201922051 | 0.9754 | 1.2559
6201922061 | 0.9754 | 1.2559
6201931000 | 0.2926 | 0.3768
6201932010 | 0.2439 | 0.3140
6201932020 | 0.2439 | 0.3140
6201933511 | 0.2439 | 0.3140
6201933521 | 0.2439 | 0.3140
6201999010 | 0.5487 | 0.7065
6201999030 | 0.3658 | 0.4710
6201999060 | 0.2439 | 0.3140
6202121000 | 0.8879 | 1.1433
6202122010 | 1.0482 | 1.3497
6202122020 | 1.0482 | 1.3497
6202122025 | 1.2332 | 1.5879
6202122035 | 1.2332 | 1.5879
6202122050 | 0.8016 | 1.0321
6202122060 | 0.8016 | 1.0321
6202134005 | 0.2524 | 0.3250
6202134010 | 0.2524 | 0.3250
6202134020 | 0.3155 | 0.4062
6202134030 | 0.3155 | 0.4062
6202199010 | 0.5678 | 0.7311
6202199030 | 0.3786 | 0.4875
6202199060 | 0.2524 | 0.3250
6202921000 | 0.9865 | 1.2702
6202921500 | 0.9865 | 1.2702
6202922010 | 0.9865 | 1.2702
6202922020 | 0.9865 | 1.2702
6202922026 | 1.2332 | 1.5879
6202922031 | 1.2332 | 1.5879
6202922061 | 0.9865 | 1.2702
6202922071 | 0.9865 | 1.2702
6202931000 | 0.296 | 0.3811
6202932010 | 0.2466 | 0.3175
6202932020 | 0.2466 | 0.3175
6202935011 | 0.2466 | 0.3175
6202935021 | 0.2466 | 0.3175
6202999011 | 0.5549 | 0.7145
6202999031 | 0.37 | 0.4764
6202999061 | 0.2466 | 0.3175
6203122010 | 0.1233 | 0.1588
6203122020 | 0.1233 | 0.1588
6203191010 | 0.9865 | 1.2702
6203191020 | 0.9865 | 1.2702
6203191030 | 0.9865 | 1.2702
6203199010 | 0.5549 | 0.7145
6203199020 | 0.5549 | 0.7145
6203199030 | 0.5549 | 0.7145
6203199050 | 0.37 | 0.4764
6203199080 | 0.2466 | 0.3175
6203221000 | 1.2332 | 1.5879
6203321000 | 0.6782 | 0.8733
6203322010 | 1.1715 | 1.5084
6203322020 | 1.1715 | 1.5084
6203322030 | 1.1715 | 1.5084
6203322040 | 1.1715 | 1.5084
6203322050 | 1.1715 | 1.5084
6203332010 | 0.1233 | 0.1588
6203332020 | 0.1233 | 0.1588
6203392010 | 0.1233 | 0.1588
6203392020 | 0.1233 | 0.1588
6203399010 | 0.5549 | 0.7145
6203399030 | 0.37 | 0.4764
6203399060 | 0.2466 | 0.3175
6203421000 | 1.0616 | 1.3669
6203422005 | 0.7077 | 0.9112
6203422010 | 0.9436 | 1.2150
6203422025 | 0.9436 | 1.2150
6203422050 | 0.9436 | 1.2150
6203422090 | 0.9436 | 1.2150
6203424003 | 1.0616 | 1.3669
6203424006 | 1.1796 | 1.5189
6203424011 | 1.1796 | 1.5189
6203424016 | 0.9436 | 1.2150
6203424021 | 1.1796 | 1.5189
6203424026 | 1.1796 | 1.5189
6203424031 | 1.1796 | 1.5189
6203424036 | 1.1796 | 1.5189
6203424041 | 0.9436 | 1.2150
6203424046 | 0.9436 | 1.2150
6203424051 | 0.8752 | 1.1269
6203424056 | 0.8752 | 1.1269
6203424061 | 0.8752 | 1.1269
6203431000 | 0.1887 | 0.2430
6203431500 | 0.118 | 0.1519
6203432005 | 0.118 | 0.1519
6203432010 | 0.2359 | 0.3037
6203432025 | 0.2359 | 0.3037
6203432050 | 0.2359 | 0.3037
6203432090 | 0.2359 | 0.3037
6203432500 | 0.4128 | 0.5315
6203433510 | 0.059 | 0.0760
6203433590 | 0.059 | 0.0760
6203434010 | 0.1167 | 0.1503
6203434015 | 0.1167 | 0.1503
6203434020 | 0.1167 | 0.1503
6203434030 | 0.1167 | 0.1503
6203434035 | 0.1167 | 0.1503
6203434040 | 0.1167 | 0.1503
6203491005 | 0.118 | 0.1519
6203491010 | 0.2359 | 0.3037
6203491025 | 0.2359 | 0.3037
6203491050 | 0.2359 | 0.3037
6203491090 | 0.2359 | 0.3037
6203491500 | 0.4128 | 0.5315
6203492015 | 0.2359 | 0.3037
6203492020 | 0.2359 | 0.3037
6203492030 | 0.118 | 0.1519
6203492045 | 0.118 | 0.1519
6203492050 | 0.118 | 0.1519
6203492060 | 0.118 | 0.1519
6203498020 | 0.5308 | 0.6835
6203498030 | 0.3539 | 0.4557
6203498045 | 0.2359 | 0.3037
6204110000 | 0.0617 | 0.0794
6204120010 | 0.9865 | 1.2702
6204120020 | 0.9865 | 1.2702
6204120030 | 0.9865 | 1.2702
6204120040 | 0.9865 | 1.2702
6204132010 | 0.1233 | 0.1588
6204132020 | 0.1233 | 0.1588
6204192000 | 0.1233 | 0.1588
6204198010 | 0.5549 | 0.7145
6204198020 | 0.5549 | 0.7145
6204198030 | 0.5549 | 0.7145
6204198040 | 0.5549 | 0.7145
6204198060 | 0.3083 | 0.3970
6204198090 | 0.2466 | 0.3175
6204221000 | 1.2332 | 1.5879
6204321000 | 0.6782 | 0.8733
6204322010 | 1.1715 | 1.5084
6204322020 | 1.1715 | 1.5084
6204322030 | 0.9865 | 1.2702
6204322040 | 0.9865 | 1.2702
6204398010 | 0.5549 | 0.7145
6204398030 | 0.3083 | 0.3970
6204412010 | 0.0603 | 0.0776
6204412020 | 0.0603 | 0.0776
6204421000 | 1.2058 | 1.5526
6204422000 | 0.6632 | 0.8539
6204423010 | 1.2058 | 1.5526
6204423020 | 1.2058 | 1.5526
6204423030 | 0.9043 | 1.1644
6204423040 | 0.9043 | 1.1644
6204423050 | 0.9043 | 1.1644
6204423060 | 0.9043 | 1.1644
6204431000 | 0.4823 | 0.6210
6204432000 | 0.0603 | 0.0776
6204442000 | 0.4316 | 0.5557
6204495010 | 0.5549 | 0.7145
6204495030 | 0.2466 | 0.3175
6204510010 | 0.0631 | 0.0812
6204510020 | 0.0631 | 0.0812
6204521000 | 1.2618 | 1.6247
6204522010 | 1.1988 | 1.5436
6204522020 | 1.1988 | 1.5436
6204522030 | 1.1988 | 1.5436
6204522040 | 1.1988 | 1.5436
6204522070 | 1.0095 | 1.2998
6204522080 | 1.0095 | 1.2998
6204531000 | 0.4416 | 0.5686
6204532010 | 0.0631 | 0.0812
6204532020 | 0.0631 | 0.0812
6204533010 | 0.2524 | 0.3250
6204533020 | 0.2524 | 0.3250
6204591000 | 0.4416 | 0.5686
6204594010 | 0.5678 | 0.7311
6204594030 | 0.2524 | 0.3250
6204594060 | 0.2524 | 0.3250
6204611010 | 0.059 | 0.0760
6204611020 | 0.059 | 0.0760
6204619010 | 0.059 | 0.0760
6204619020 | 0.059 | 0.0760
6204619030 | 0.059 | 0.0760
6204619040 | 0.118 | 0.1519
6204621000 | 0.8681 | 1.1178
6204622005 | 0.7077 | 0.9112
6204622010 | 0.9436 | 1.2150
6204622025 | 0.9436 | 1.2150
6204622050 | 0.9436 | 1.2150
6204623000 | 1.1796 | 1.5189
6204624003 | 1.0616 | 1.3669
6204624006 | 1.1796 | 1.5189
6204624011 | 1.1796 | 1.5189
6204624021 | 0.9436 | 1.2150
6204624026 | 1.1796 | 1.5189
6204624031 | 1.1796 | 1.5189
6204624036 | 1.1796 | 1.5189
6204624041 | 1.1796 | 1.5189
6204624046 | 0.9436 | 1.2150
6204624051 | 0.9436 | 1.2150
6204624056 | 0.9335 | 1.2020
6204624061 | 0.9335 | 1.2020
6204624066 | 0.9335 | 1.2020
6204631000 | 0.2019 | 0.2600
6204631200 | 0.118 | 0.1519
6204631505 | 0.118 | 0.1519
6204631510 | 0.2359 | 0.3037
6204631525 | 0.2359 | 0.3037
6204631550 | 0.2359 | 0.3037
6204632000 | 0.4718 | 0.6075
6204632510 | 0.059 | 0.0760
6204632520 | 0.059 | 0.0760
6204633010 | 0.0603 | 0.0776
6204633090 | 0.0603 | 0.0776
6204633510 | 0.2412 | 0.3106
6204633525 | 0.2412 | 0.3106
6204633530 | 0.2412 | 0.3106
6204633532 | 0.2309 | 0.2973
6204633535 | 0.2309 | 0.2973
6204633540 | 0.2309 | 0.2973
6204691005 | 0.118 | 0.1519
6204691010 | 0.2359 | 0.3037
6204691025 | 0.2359 | 0.3037
6204691050 | 0.2359 | 0.3037
6204692010 | 0.059 | 0.0760
6204692020 | 0.059 | 0.0760
6204692030 | 0.059 | 0.0760
6204692510 | 0.2359 | 0.3037
6204692520 | 0.2359 | 0.3037
6204692530 | 0.2359 | 0.3037
6204692540 | 0.2309 | 0.2973
6204692550 | 0.2309 | 0.2973
6204692560 | 0.2309 | 0.2973
6204696010 | 0.5308 | 0.6835
6204696030 | 0.2359 | 0.3037
6204696070 | 0.3539 | 0.4557
6204699010 | 0.5308 | 0.6835
6204699030 | 0.2359 | 0.3037
6204699044 | 0.2359 | 0.3037
6204699046 | 0.2359 | 0.3037
6204699050 | 0.3539 | 0.4557
6205201000 | 1.1796 | 1.5189
6205202003 | 0.9436 | 1.2150
6205202016 | 0.9436 | 1.2150
6205202021 | 0.9436 | 1.2150
6205202026 | 0.9436 | 1.2150
6205202031 | 0.9436 | 1.2150
6205202036 | 1.0616 | 1.3669
6205202041 | 1.0616 | 1.3669
6205202044 | 1.0616 | 1.3669
6205202047 | 0.9436 | 1.2150
6205202051 | 0.9436 | 1.2150
6205202056 | 0.9436 | 1.2150
6205202061 | 0.9436 | 1.2150
6205202066 | 0.9436 | 1.2150
6205202071 | 0.9436 | 1.2150
6205202076 | 0.9436 | 1.2150
6205301000 | 0.4128 | 0.5315
6205302010 | 0.2949 | 0.3797
6205302020 | 0.2949 | 0.3797
6205302030 | 0.2949 | 0.3797
6205302040 | 0.2949 | 0.3797
6205302050 | 0.2949 | 0.3797
6205302055 | 0.2949 | 0.3797
6205302060 | 0.2949 | 0.3797
6205302070 | 0.2949 | 0.3797
6205302075 | 0.2949 | 0.3797
6205302080 | 0.2949 | 0.3797
6205900710 | 0.118 | 0.1519
6205900720 | 0.118 | 0.1519
6205901000 | 0.2359 | 0.3037
6205903010 | 0.5308 | 0.6835
6205903030 | 0.2359 | 0.3037
6205903050 | 0.1769 | 0.2278
6205904010 | 0.5308 | 0.6835
6205904030 | 0.2359 | 0.3037
6205904040 | 0.2359 | 0.3037
6206100010 | 0.5308 | 0.6835
6206100030 | 0.2359 | 0.3037
6206100040 | 0.118 | 0.1519
6206100050 | 0.2359 | 0.3037
6206203010 | 0.059 | 0.0760
6206203020 | 0.059 | 0.0760
6206301000 | 1.1796 | 1.5189
6206302000 | 0.6488 | 0.8354
6206303003 | 0.9436 | 1.2150
6206303011 | 0.9436 | 1.2150
6206303021 | 0.9436 | 1.2150
6206303031 | 0.9436 | 1.2150
6206303041 | 0.9436 | 1.2150
6206303051 | 0.9436 | 1.2150
6206303061 | 0.9436 | 1.2150
6206401000 | 0.4128 | 0.5315
6206403010 | 0.2949 | 0.3797
6206403020 | 0.2949 | 0.3797
6206403025 | 0.2949 | 0.3797
6206403030 | 0.2949 | 0.3797
6206403040 | 0.2949 | 0.3797
6206403050 | 0.2949 | 0.3797
6206900010 | 0.5308 | 0.6835
6206900030 | 0.2359 | 0.3037
6206900040 | 0.1769 | 0.2278
6207110000 | 1.0281 | 1.3238
6207199010 | 0.3427 | 0.4413
6207199030 | 0.4569 | 0.5883
6207210010 | 1.0502 | 1.3522
6207210020 | 1.0502 | 1.3522
6207210030 | 1.0502 | 1.3522
6207210040 | 1.0502 | 1.3522
6207220000 | 0.3501 | 0.4508
6207291000 | 0.1167 | 0.1503
6207299030 | 0.1167 | 0.1503
6207911000 | 1.0852 | 1.3973
6207913010 | 1.0852 | 1.3973
6207913020 | 1.0852 | 1.3973
6207997520 | 0.2412 | 0.3106
6207998510 | 0.2412 | 0.3106
6207998520 | 0.2412 | 0.3106
6208110000 | 0.2412 | 0.3106
6208192000 | 1.0852 | 1.3973
6208195000 | 0.1206 | 0.1553
6208199000 | 0.2412 | 0.3106
6208210010 | 1.0026 | 1.2909
6208210020 | 1.0026 | 1.2909
6208210030 | 1.0026 | 1.2909
6208220000 | 0.118 | 0.1519
6208299030 | 0.2359 | 0.3037
6208911010 | 1.0852 | 1.3973
6208911020 | 1.0852 | 1.3973
6208913010 | 1.0852 | 1.3973
6208913020 | 1.0852 | 1.3973
6208920010 | 0.1206 | 0.1553
6208920020 | 0.1206 | 0.1553
6208920030 | 0.1206 | 0.1553
6208920040 | 0.1206 | 0.1553
6208992010 | 0.0603 | 0.0776
6208992020 | 0.0603 | 0.0776
6208995010 | 0.2412 | 0.3106
6208995020 | 0.2412 | 0.3106
6208998010 | 0.2412 | 0.3106
6208998020 | 0.2412 | 0.3106
6209201000 | 1.0967 | 1.4121
6209202000 | 1.039 | 1.3378
6209203000 | 0.9236 | 1.1892
6209205030 | 0.9236 | 1.1892
6209205035 | 0.9236 | 1.1892
6209205045 | 0.9236 | 1.1892
6209205050 | 0.9236 | 1.1892
6209301000 | 0.2917 | 0.3756
6209302000 | 0.2917 | 0.3756
6209303010 | 0.2334 | 0.3005
6209303020 | 0.2334 | 0.3005
6209303030 | 0.2334 | 0.3005
6209303040 | 0.2334 | 0.3005
6209900500 | 0.1154 | 0.1486
6209901000 | 0.2917 | 0.3756
6209902000 | 0.2917 | 0.3756
6209903010 | 0.2917 | 0.3756
6209903015 | 0.2917 | 0.3756
6209903020 | 0.2917 | 0.3756
6209903030 | 0.2917 | 0.3756
6209903040 | 0.2917 | 0.3756
6210109010 | 0.217 | 0.2794
6210109040 | 0.217 | 0.2794
6210203000 | 0.0362 | 0.0466
6210205000 | 0.0844 | 0.1087
6210207000 | 0.1809 | 0.2329
6210303000 | 0.0362 | 0.0466
6210305000 | 0.0844 | 0.1087
6210307000 | 0.0362 | 0.0466
6210309020 | 0.422 | 0.5434
6210403000 | 0.037 | 0.0476
6210405020 | 0.4316 | 0.5557
6210405031 | 0.0863 | 0.1111
6210405039 | 0.0863 | 0.1111
6210405040 | 0.4316 | 0.5557
6210405050 | 0.4316 | 0.5557
6210407000 | 0.111 | 0.1429
6210409025 | 0.111 | 0.1429
6210409033 | 0.111 | 0.1429
6210409045 | 0.111 | 0.1429
6210409060 | 0.111 | 0.1429
6210503000 | 0.037 | 0.0476
6210505020 | 0.0863 | 0.1111
6210505031 | 0.0863 | 0.1111
6210505039 | 0.0863 | 0.1111
6210505040 | 0.0863 | 0.1111
6210505055 | 0.0863 | 0.1111
6210507000 | 0.4316 | 0.5557
6210509050 | 0.148 | 0.1906
6210509060 | 0.148 | 0.1906
6210509070 | 0.148 | 0.1906
6210509090 | 0.148 | 0.1906
6211111010 | 0.1206 | 0.1553
6211111020 | 0.1206 | 0.1553
6211118010 | 1.0852 | 1.3973
6211118020 | 1.0852 | 1.3973
6211118040 | 0.2412 | 0.3106
6211121010 | 0.0603 | 0.0776
6211121020 | 0.0603 | 0.0776
6211128010 | 1.0852 | 1.3973
6211128020 | 1.0852 | 1.3973
6211128030 | 0.6029 | 0.7763
6211200410 | 0.7717 | 0.9936
6211200420 | 0.0965 | 0.1243
6211200430 | 0.7717 | 0.9936
6211200440 | 0.0965 | 0.1243
6211200810 | 0.3858 | 0.4968
6211200820 | 0.3858 | 0.4968
6211201510 | 0.7615 | 0.9805
6211201515 | 0.2343 | 0.3017
6211201520 | 0.6443 | 0.8296
6211201525 | 0.2929 | 0.3771
6211201530 | 0.7615 | 0.9805
6211201535 | 0.3515 | 0.4526
6211201540 | 0.7615 | 0.9805
6211201545 | 0.2929 | 0.3771
6211201550 | 0.7615 | 0.9805
6211201555 | 0.41 | 0.5279
6211201560 | 0.7615 | 0.9805
6211201565 | 0.2343 | 0.3017
6211202400 | 0.1233 | 0.1588
6211202810 | 0.8016 | 1.0321
6211202820 | 0.2466 | 0.3175
6211202830 | 0.3083 | 0.3970
6211203400 | 0.1233 | 0.1588
6211203810 | 0.8016 | 1.0321
6211203820 | 0.2466 | 0.3175
6211203830 | 0.3083 | 0.3970
6211204400 | 0.1233 | 0.1588
6211204815 | 0.8016 | 1.0321
6211204835 | 0.2466 | 0.3175
6211204860 | 0.3083 | 0.3970
6211205400 | 0.1233 | 0.1588
6211205810 | 0.8016 | 1.0321
6211205820 | 0.2466 | 0.3175
6211205830 | 0.3083 | 0.3970
6211206400 | 0.1233 | 0.1588
6211206810 | 0.8016 | 1.0321
6211206820 | 0.2466 | 0.3175
6211206830 | 0.3083 | 0.3970
6211207400 | 0.1233 | 0.1588
6211207810 | 0.9249 | 1.1909
6211207820 | 0.2466 | 0.3175
6211207830 | 0.3083 | 0.3970
6211320003 | 0.6412 | 0.8256
6211320007 | 0.8016 | 1.0321
6211320010 | 0.9865 | 1.2702
6211320015 | 0.9865 | 1.2702
6211320025 | 0.9865 | 1.2702
6211320030 | 0.9249 | 1.1909
6211320040 | 0.9249 | 1.1909
6211320050 | 0.9249 | 1.1909
6211320060 | 0.9249 | 1.1909
6211320070 | 0.9249 | 1.1909
6211320075 | 0.9249 | 1.1909
6211320081 | 0.9249 | 1.1909
6211330003 | 0.0987 | 0.1271
6211330007 | 0.1233 | 0.1588
6211330010 | 0.3083 | 0.3970
6211330015 | 0.3083 | 0.3970
6211330017 | 0.3083 | 0.3970
6211330025 | 0.37 | 0.4764
6211330030 | 0.37 | 0.4764
6211330035 | 0.37 | 0.4764
6211330040 | 0.37 | 0.4764
6211330054 | 0.37 | 0.4764
6211330058 | 0.37 | 0.4764
6211330061 | 0.37 | 0.4764
6211390510 | 0.1233 | 0.1588
6211390520 | 0.1233 | 0.1588
6211390530 | 0.1233 | 0.1588
6211390540 | 0.1233 | 0.1588
6211390545 | 0.1233 | 0.1588
6211390551 | 0.1233 | 0.1588
6211399010 | 0.2466 | 0.3175
6211399020 | 0.2466 | 0.3175
6211399030 | 0.2466 | 0.3175
6211399040 | 0.2466 | 0.3175
6211399050 | 0.2466 | 0.3175
6211399060 | 0.2466 | 0.3175
6211399070 | 0.2466 | 0.3175
6211399090 | 0.2466 | 0.3175
6211420003 | 0.6412 | 0.8256
6211420007 | 0.8016 | 1.0321
6211420010 | 0.9865 | 1.2702
6211420020 | 0.9865 | 1.2702
6211420025 | 1.1099 | 1.4291
6211420030 | 0.8632 | 1.1115
6211420040 | 0.9865 | 1.2702
6211420054 | 1.1099 | 1.4291
6211420056 | 1.1099 | 1.4291
6211420060 | 0.9865 | 1.2702
6211420070 | 1.1099 | 1.4291
6211420075 | 1.1099 | 1.4291
6211420081 | 1.1099 | 1.4291
6211430003 | 0.0987 | 0.1271
6211430007 | 0.1233 | 0.1588
6211430010 | 0.2466 | 0.3175
6211430020 | 0.2466 | 0.3175
6211430030 | 0.2466 | 0.3175
6211430040 | 0.2466 | 0.3175
6211430050 | 0.2466 | 0.3175
6211430060 | 0.2466 | 0.3175
6211430064 | 0.3083 | 0.3970
6211430066 | 0.2466 | 0.3175
6211430074 | 0.3083 | 0.3970
6211430076 | 0.37 | 0.4764
6211430078 | 0.37 | 0.4764
6211430091 | 0.2466 | 0.3175
6211499010 | 0.2466 | 0.3175
6211499020 | 0.2466 | 0.3175
6211499030 | 0.2466 | 0.3175
6211499040 | 0.2466 | 0.3175
6211499050 | 0.2466 | 0.3175
6211499060 | 0.2466 | 0.3175
6211499070 | 0.2466 | 0.3175
6211499080 | 0.2466 | 0.3175
6211499090 | 0.2466 | 0.3175
6212105010 | 0.9138 | 1.1766
6212105020 | 0.2285 | 0.2942
6212105030 | 0.2285 | 0.2942
6212109010 | 0.9138 | 1.1766
6212109020 | 0.2285 | 0.2942
6212109040 | 0.2285 | 0.2942
6212200010 | 0.6854 | 0.8825
6212200020 | 0.2856 | 0.3677
6212200030 | 0.1142 | 0.1470
6212300010 | 0.6854 | 0.8825
6212300020 | 0.2856 | 0.3677
6212300030 | 0.1142 | 0.1470
6212900010 | 0.1828 | 0.2354
6212900020 | 0.1828 | 0.2354
6212900030 | 0.1828 | 0.2354
6212900050 | 0.0914 | 0.1177
6212900090 | 0.4112 | 0.5295
6213201000 | 1.1187 | 1.4404
6213202000 | 1.0069 | 1.2965
6213900700 | 0.4475 | 0.5762
6213901000 | 0.4475 | 0.5762
6213902000 | 0.3356 | 0.4321
6214300000 | 0.1142 | 0.1470
6214400000 | 0.1142 | 0.1470
6214900010 | 0.8567 | 1.1031
6214900090 | 0.2285 | 0.2942
6215100025 | 0.1142 | 0.1470
6215200000 | 0.1142 | 0.1470
6215900015 | 1.0281 | 1.3238
6216000800 | 0.0685 | 0.0882
6216001300 | 0.3427 | 0.4413
6216001720 | 0.6397 | 0.8237
6216001730 | 0.1599 | 0.2059
6216001900 | 0.3427 | 0.4413
6216002110 | 0.578 | 0.7442
6216002120 | 0.2477 | 0.3189
6216002410 | 0.6605 | 0.8505
6216002425 | 0.1651 | 0.2126
6216002600 | 0.1651 | 0.2126
6216002910 | 0.6605 | 0.8505
6216002925 | 0.1651 | 0.2126
6216003100 | 0.1651 | 0.2126
6216003300 | 0.5898 | 0.7594
6216003500 | 0.5898 | 0.7594
6216003800 | 1.1796 | 1.5189
6216004100 | 1.1796 | 1.5189
6217109510 | 0.9646 | 1.2420
6217109520 | 0.1809 | 0.2329
6217109530 | 0.2412 | 0.3106
6217909003 | 0.9646 | 1.2420
6217909005 | 0.1809 | 0.2329
6217909010 | 0.2412 | 0.3106
6217909025 | 0.9646 | 1.2420
6217909030 | 0.1809 | 0.2329
6217909035 | 0.2412 | 0.3106
6217909050 | 0.9646 | 1.2420
6217909055 | 0.1809 | 0.2329
6217909060 | 0.2412 | 0.3106
6217909075 | 0.9646 | 1.2420
6217909080 | 0.1809 | 0.2329
6217909085 | 0.2412 | 0.3106
6301300010 | 0.8305 | 1.0694
6301300020 | 0.8305 | 1.0694
6301900030 | 0.2215 | 0.2852
6302100005 | 1.1073 | 1.4258
6302100008 | 1.1073 | 1.4258
6302100015 | 1.1073 | 1.4258
6302213010 | 1.1073 | 1.4258
6302213020 | 1.1073 | 1.4258
6302213030 | 1.1073 | 1.4258
6302213040 | 1.1073 | 1.4258
6302213050 | 1.1073 | 1.4258
6302215010 | 0.7751 | 0.9980
6302215020 | 0.7751 | 0.9980
6302215030 | 0.7751 | 0.9980
6302215040 | 0.7751 | 0.9980
6302215050 | 0.7751 | 0.9980
6302217010 | 1.1073 | 1.4258
6302217020 | 1.1073 | 1.4258
6302217030 | 1.1073 | 1.4258
6302217040 | 1.1073 | 1.4258
6302217050 | 1.1073 | 1.4258
6302219010 | 0.7751 | 0.9980
6302219020 | 0.7751 | 0.9980
6302219030 | 0.7751 | 0.9980
6302219040 | 0.7751 | 0.9980
6302219050 | 0.7751 | 0.9980
6302221010 | 0.5537 | 0.7129
6302221020 | 0.3876 | 0.4991
6302221030 | 0.5537 | 0.7129
6302221040 | 0.3876 | 0.4991
6302221050 | 0.3876 | 0.4991
6302221060 | 0.3876 | 0.4991
6302222010 | 0.3876 | 0.4991
6302222020 | 0.3876 | 0.4991
6302222030 | 0.3876 | 0.4991
6302290020 | 0.2215 | 0.2852
6302313010 | 1.1073 | 1.4258
6302313020 | 1.1073 | 1.4258
6302313030 | 1.1073 | 1.4258
6302313040 | 1.1073 | 1.4258
6302313050 | 1.1073 | 1.4258
6302315010 | 0.7751 | 0.9980
6302315020 | 0.7751 | 0.9980
6302315030 | 0.7751 | 0.9980
6302315040 | 0.7751 | 0.9980
6302315050 | 0.7751 | 0.9980
6302317010 | 1.1073 | 1.4258
6302317020 | 1.1073 | 1.4258
6302317030 | 1.1073 | 1.4258
6302317040 | 1.1073 | 1.4258
6302317050 | 1.1073 | 1.4258
6302319010 | 0.7751 | 0.9980
6302319020 | 0.7751 | 0.9980
6302319030 | 0.7751 | 0.9980
6302319040 | 0.7751 | 0.9980
6302319050 | 0.7751 | 0.9980
6302321010 | 0.5537 | 0.7129
6302321020 | 0.3876 | 0.4991
6302321030 | 0.5537 | 0.7129
6302321040 | 0.3876 | 0.4991
6302321050 | 0.3876 | 0.4991
6302321060 | 0.3876 | 0.4991
6302322010 | 0.5537 | 0.7129
6302322020 | 0.3876 | 0.4991
6302322030 | 0.5537 | 0.7129
6302322040 | 0.3876 | 0.4991
6302322050 | 0.3876 | 0.4991
6302322060 | 0.3876 | 0.4991
6302390030 | 0.2215 | 0.2852
6302402010 | 0.9412 | 1.2119
6302511000 | 0.5537 | 0.7129
6302512000 | 0.8305 | 1.0694
6302513000 | 0.5537 | 0.7129
6302514000 | 0.7751 | 0.9980
6302593020 | 0.5537 | 0.7129
6302600010 | 1.1073 | 1.4258
6302600020 | 0.9966 | 1.2832
6302600030 | 0.9966 | 1.2832
6302910005 | 0.9966 | 1.2832
6302910015 | 1.1073 | 1.4258
6302910025 | 0.9966 | 1.2832
6302910035 | 0.9966 | 1.2832
6302910045 | 0.9966 | 1.2832
6302910050 | 0.9966 | 1.2832
6302910060 | 0.9966 | 1.2832
6302931000 | 0.4429 | 0.5703
6302932000 | 0.4429 | 0.5703
6302992000 | 0.2215 | 0.2852
6303191100 | 0.8859 | 1.1407
6303910010 | 0.609 | 0.7841
6303910020 | 0.609 | 0.7841
6303921000 | 0.2768 | 0.3564
6303922010 | 0.2768 | 0.3564
6303922030 | 0.2768 | 0.3564
6303922050 | 0.2768 | 0.3564
6303990010 | 0.2768 | 0.3564
6304111000 | 0.9966 | 1.2832
6304113000 | 0.1107 | 0.1425
6304190500 | 0.9966 | 1.2832
6304191000 | 1.1073 | 1.4258
6304191500 | 0.3876 | 0.4991
6304192000 | 0.3876 | 0.4991
6304193060 | 0.2215 | 0.2852
6304910020 | 0.8859 | 1.1407
6304910070 | 0.2215 | 0.2852
6304920000 | 0.8859 | 1.1407
6304996040 | 0.2215 | 0.2852
6505001515 | 1.1189 | 1.4407
6505001525 | 0.5594 | 0.7203
6505001540 | 1.1189 | 1.4407
6505002030 | 0.9412 | 1.2119
6505002060 | 0.9412 | 1.2119
6505002545 | 0.5537 | 0.7129
6507000000 | 0.3986 | 0.5132
9404901000 | 0.2104 | 0.2709
9404908020 | 0.9966 | 1.2832
9404908040 | 0.9966 | 1.2832
9404908505 | 0.6644 | 0.8555
9404908536 | 0.0997 | 0.1284
9404909505 | 0.6644 | 0.8555
9404909570 | 0.2658 | 0.3422
9619002100 | 0.8681 | 1.1178
9619002500 | 0.1085 | 0.1397
9619003100 | 0.9535 | 1.2277
9619003300 | 1.1545 | 1.4865
9619004100 | 0.2384 | 0.3070
9619004300 | 0.2384 | 0.3070
9619006100 | 0.8528 | 1.0981
9619006400 | 0.2437 | 0.3138
9619006800 | 0.3655 | 0.4706
9619007100 | 1.1099 | 1.4291
9619007400 | 0.2466 | 0.3175
9619007800 | 0.2466 | 0.3175
9619007900 | 0.2466 | 0.3175

* * * * *

Authority: 7 U.S.C. 2101-2118

Dated: June 25, 2013.
Rex A. Barnes,
Associate Administrator.

[FR Doc. 2013-15748 Filed 7-1-13; 8:45 am]

BILLING CODE 3410-02-P